DEPARTMENT OF THE INTERIOR

Fish and Wildlife Service

50 CFR Part 17

[Docket No. FWS-HQ-ES-2020-0146; FF09E22000 FXES11180900000 212]

Endangered and Threatened Wildlife and Plants; Review of Foreign Species That Are Candidates for Listing as Endangered or Threatened; Annual Description of Progress on Listing Actions

AGENCY: Fish and Wildlife Service, Interior.

ACTION: Notification of review.

SUMMARY: In this candidate notice of review (CNOR), we, the U.S. Fish and Wildlife Service (Service), present an updated list of foreign plant and animal species that we regard as candidates for or have proposed for addition to the Lists of Endangered and Threatened Wildlife and Plants (Lists) under the Endangered Species Act of 1973, as amended. This document also includes our findings on resubmitted petitions and describes our progress in revising the Lists during the period October 1, 2018, through September 30, 2020. Combined with other decisions for individual species that were published separately from this CNOR in the past 2 years, the current number of foreign species that are candidates for listing is 19. Identification of candidate species can assist environmental planning efforts by providing advance notice of potential listings, and by allowing landowners, resource managers, range countries, and other stakeholders to take actions to alleviate threats and thereby possibly remove the need to list species as endangered or threatened. Even if we subsequently list a candidate species, the early notification provided here could result in more options for species management and recovery by prompting earlier candidate conservation measures to alleviate threats to the species.

DATES: We will accept information on any of the species in this document at any time.

ADDRESSES: This document is available on the internet at http://www.regulations.gov and http://www.fws.gov/endangered/what-we-do/cnor.html.

Species assessment forms with information and references on a particular candidate species' range, status, habitat needs, and listing priority assignment are available for review at the office listed below in FOR FURTHER INFORMATION CONTACT, or on our website (https://ecos.fws.gov/ecp/report/candidate-species). Please submit any new information, materials, comments, or questions of a general nature on this document or pertaining to a particular species to the address listed under FOR FURTHER INFORMATION CONTACT. Species-specific information and materials we receive will be available on the internet at http://www.regulations.gov under Docket No. FWS-HQ-ES-2020-0146.

FOR FURTHER INFORMATION CONTACT: Elizabeth Maclin, Chief, Branch of Delisting and Foreign Species, Ecological Services Program, U.S. Fish and Wildlife Service, MS: ES, 5275 Leesburg Pike, Falls Church, VA 22041-3803 (telephone 703-358-2171). Persons who use a telecommunications device for the deaf may call the Federal Relay Service at 800-877-8339.

SUPPLEMENTARY INFORMATION:

Background

The Endangered Species Act of 1973, as amended (Act; 16 U.S.C. 1531 et seq.), requires that we identify species of wildlife and plants that are endangered or threatened based solely on the best scientific and commercial data available. As defined in section 3 of the Act, an endangered species is any species that is in danger of extinction throughout all or a significant portion of its range, and a threatened species is any species that is likely to become an endangered species within the foreseeable future throughout all or a significant portion of its range. Through the Federal rulemaking process, we add species that meet these definitions to the List of Endangered and Threatened Wildlife in title 50 of the Code of Federal Regulations (CFR) at § 17.11 (50 CFR 17.11) or the List of Endangered and Threatened Plants at 50 CFR 17.12. As part of this program, we maintain a list of species that we regard as candidates for listing. A candidate species is one for which we have on file sufficient information on biological vulnerability and threats to support a proposal for listing as endangered or threatened, but for which preparation and publication of a proposal is precluded by higher priority listing actions. We may identify a species as a candidate for listing after we have conducted an evaluation of its status—either on our own initiative, or in response to a petition we have received. If we have made a finding on a petition to list a species, and have found that listing is warranted, but precluded by other higher priority listing actions, we will add the species to our list of candidates.

We maintain this list of candidates for a variety of reasons: (1) To notify the public that these species are facing threats to their survival; (2) to provide advance knowledge of potential listings that could affect decisions of environmental planners and developers; (3) to provide information that may stimulate and guide conservation efforts that will remove or reduce threats to these species and possibly make listing unnecessary; (4) to request input from interested parties to help us identify those candidate species that may not require protection under the Act, as well as additional species that may require the Act's protections; and (5) to request necessary information for setting priorities for preparing listing proposals. We encourage collaborative conservation efforts for candidate species and offer technical and financial assistance to facilitate such efforts. For additional information regarding such assistance, please contact the person listed under FOR FURTHER INFORMATION CONTACT, above.

Previous CNORs

We have been publishing CNORs since 1975. The most recent CNOR that included foreign species was published on October 10, 2019 (84 FR 54732), and covered the period October 1, 2016, through September 30, 2018. CNORs published since 1994 are available on our website at http://www.fws.gov/endangered/what-we-do/cnor.html. For copies of CNORs published prior to 1994, please contact the person listed under FOR FURTHER INFORMATION CONTACT, above.

On September 21, 1983, we published guidance for assigning a listing priority number (LPN) for each candidate species (48 FR 43098). Using this guidance, we assign each candidate an LPN of 1 to 12, depending on the magnitude of threats, immediacy of threats, and taxonomic status; the lower the LPN, the higher the listing priority (that is, a species with an LPN of 1 would have the highest listing priority). Section 4(h)(3) of the Act (16 U.S.C. 1533(h)(3)) requires the Secretary to establish guidelines for such a priority-ranking system. As explained below, in using this system, we first categorize based on the magnitude of the threat(s), then by the immediacy of the threat(s), and finally by taxonomic status.

Under this priority-ranking system, magnitude of threat can be either “high” or “moderate to low.” This criterion helps ensure that the species facing the greatest threats to their continued existence receive the highest listing priority. All candidate species face threats to their continued existence, so the magnitude of threats is in relative terms. For all candidate species, the threats are of sufficiently high magnitude to put them in danger of extinction or make them likely to become in danger of extinction in the foreseeable future. However, for species with higher magnitude threats, the threats have a greater likelihood of bringing about extinction or are expected to bring about extinction on a shorter timescale (once the threats are imminent) than for species with lower-magnitude threats. Because we do not routinely quantify how likely or how soon extinction would be expected to occur absent listing, we must evaluate factors that contribute to the likelihood and time scale for extinction. We therefore consider information such as: (1) The number of populations or extent of range of the species affected by the threat(s), or both; (2) the biological significance of the affected population(s), taking into consideration the life-history characteristics of the species and its current abundance and distribution; (3) whether the threats affect the species in only a portion of its range, and, if so, the likelihood of persistence of the species in the unaffected portions; (4) the severity of the effects and the rapidity with which they have caused or are likely to cause mortality to individuals and accompanying declines in population levels; (5) whether the effects are likely to be permanent; and (6) the extent to which any ongoing conservation efforts reduce the severity of the threat(s).

As used in our priority-ranking system, immediacy of threat is categorized as either “imminent” or “nonimminent,” and is based on when the threats will begin. If a threat is currently occurring or likely to occur in the very near future, we classify the threat as imminent. Determining the immediacy of threats helps ensure that species facing actual, identifiable threats are given priority for listing proposals over species for which threats are only potential or species that are intrinsically vulnerable to certain types of threats but are not known to be presently facing such threats.

Our priority-ranking system has three categories for taxonomic status: Species that are the sole members of a genus; full species (in genera that have more than one species); and subspecies and distinct population segments of vertebrate species (DPS).

The result of the ranking system is that we assign each candidate an LPN of 1 to 12. For example, if the threats are of high magnitude, with immediacy classified as imminent, the listable entity is assigned an LPN of 1, 2, or 3 based on its taxonomic status (i.e., a species that is the only member of its genus would be assigned to the LPN 1 category, a full species to LPN 2, and a subspecies or DPS would be assigned to LPN 3). In summary, the LPN ranking system provides a basis for making decisions about the relative priority for preparing a proposed rule to list a given species. No matter which LPN we assign to a species, each species included in this document as a candidate is one for which we have concluded that we have sufficient information to prepare a proposed rule for listing because it is in danger of extinction or likely to become endangered within the foreseeable future throughout all or a significant portion of its range.

For more information on the process and standards used in assigning LPNs, a copy of the 1983 guidance is available on our website at: https://www.fws.gov/endangered/esa-library/pdf/48fr43098-43105.pdf. Information on the LPN assigned to a particular species is summarized in this CNOR, and the species assessment for each candidate contains the LPN chart and a more-detailed explanation—including citations to, and more-detailed analyses of, the best scientific and commercial data available—for our determination of the magnitude and immediacy of threat(s) and assignment of the LPN.

Summary of This CNOR

Since publication of the last CNOR that included foreign species on October 10, 2019 (84 FR 54732), we reviewed the available information on candidate species to ensure that a proposed listing is justified for each species, and reevaluated the relative LPN assigned to each species. We also evaluated the need to emergency list any of these species, particularly species with higher priorities (i.e., species with LPNs of 1, 2, or 3). This review and reevaluation ensures that we focus conservation efforts on those species at greatest risk.

We are not identifying any new candidates or removing any candidates through this document. However, we are changing the listing priority number for one existing candidate.

In addition to reviewing candidate species since publication of the last CNOR that included foreign species, we have worked on findings in response to petitions to list species, on proposed rules to list species under the Act, and on final listing determinations. Some of these findings and determinations have been completed and published in the Federal Register, while work on others is still under way (see Preclusion and Expeditious Progress, below, for details).

Combined with other findings and determinations published separately from this CNOR, 19 foreign species are candidates awaiting preparation of a proposed listing rule or “not-warranted” finding. Table 4 identifies these 19 species.

Petition Findings

The Act provides two mechanisms for considering species for listing. One method allows the Secretary, on the Secretary's own initiative, to identify species for listing under the standards of section 4(a)(1). The second method provides a mechanism for the public to petition us to add a species to the Lists. As described further in the paragraphs that follow, the CNOR serves several purposes as part of the petition process: (1) In some instances (in particular, for petitions to list species that the Service has already identified as candidates on its own initiative), it serves as the initial petition finding; (2) for candidate species for which the Service has made a warranted-but-precluded petition finding, it serves as a “resubmitted” petition finding that the Act requires the Service to make each year; and (3) it documents the Service's compliance with the statutory requirement to monitor the status of species for which listing is warranted but precluded, and to ascertain if they need emergency listing.

First, the CNOR serves as an initial petition finding in some instances. Under section 4(b)(3)(A) of the Act, when we receive a petition to list a species, we must determine within 90 days, to the maximum extent practicable, whether the petition presents substantial information indicating that listing may be warranted (a “90-day finding”). If we make a positive 90-day finding, we must promptly commence a status review of the species under section 4(b)(3)(A); we must then make, within 12 months of the receipt of the petition, one of the following three possible findings (a “12-month finding”):

(1) The petitioned action is not warranted, in which case we must promptly publish the finding in the Federal Register;

(2) The petitioned action is warranted (in which case we are required to promptly publish a proposed regulation to implement the petitioned action; once we publish a proposed rule for a species, sections 4(b)(5) and 4(b)(6) of the Act govern further procedures, regardless of whether or not we issued the proposal in response to a petition); or

(3) The petitioned action is warranted, but (a) the immediate proposal of a regulation and final promulgation of a regulation implementing the petitioned action is precluded by pending proposals to determine whether any species is endangered or threatened, and (b) expeditious progress is being made to add qualified species to the Lists. We refer to this third option as a “warranted-but-precluded finding,” and after making such a finding, we must promptly publish it in the Federal Register.

We define “candidate species” to mean those species for which the Service has on file sufficient information on biological vulnerability and threats to support issuance of a proposed rule to list, but for which issuance of the proposed rule is precluded (61 FR 64481; December 5, 1996). The standard for making a species a candidate through our own initiative is identical to the standard for making a warranted-but-precluded 12-month petition finding on a petition to list, and we add all petitioned species for which we have made a warranted-but-precluded 12-month finding to the candidate list.

Therefore, all candidate species identified through our own initiative already have received the equivalent of substantial 90-day and warranted-but-precluded 12-month findings. Nevertheless, if we receive a petition to list a species that we have already identified as a candidate, we review the status of the newly petitioned candidate species and through this CNOR publish specific section 4(b)(3) findings (i.e., substantial 90-day and warranted-but-precluded 12-month findings) in response to the petitions to list these candidate species. We publish these findings as part of the first CNOR following receipt of the petition. We have identified the candidate species for which we received petitions and made a continued warranted-but-precluded finding on a resubmitted petition by the code “C*” in the category column on the left side of Table 4, below.

Second, the CNOR serves as a “resubmitted” petition finding. Section 4(b)(3)(C)(i) of the Act requires that when we make a warranted-but-precluded finding on a petition, we treat the petition as one that is resubmitted on the date of the finding. Thus, we must make a 12-month petition finding for each such species at least once a year in compliance with section 4(b)(3)(B) of the Act, until we publish a proposal to list the species or make a final not-warranted finding. We make these annual resubmitted petition findings through the CNOR. To the extent these annual findings differ from the initial 12-month warranted-but-precluded finding or any of the resubmitted petition findings in previous CNORs, they supersede the earlier findings, although all previous findings are part of the administrative record for the new finding, and in the new finding, we may rely upon them or incorporate them by reference as appropriate, in addition to explaining why the finding has changed.

Third, through undertaking the analysis required to complete the CNOR, the Service determines if any candidate species needs emergency listing. Section 4(b)(3)(C)(iii) of the Act requires us to implement a system to monitor effectively the status of all species for which we have made a warranted-but-precluded 12-month finding, and to make prompt use of the emergency listing authority under section 4(b)(7) of the Act to prevent a significant risk to the well being of any such species. The CNOR plays a crucial role in the monitoring system that we have implemented for all candidate species by providing notice that we are actively seeking information regarding the status of those species. We review all new information on candidate species as it becomes available, prepare an annual species assessment form that reflects monitoring results and other new information, and identify any species for which emergency listing may be appropriate. If we determine that emergency listing is appropriate for any candidate, we will make prompt use of the emergency listing authority under section 4(b)(7) of the Act. For example, on August 10, 2011, we emergency listed the Miami blue butterfly (76 FR 49542). We have been reviewing and will continue to review, at least annually, the status of every candidate, whether or not we have received a petition to list it. Thus, the CNOR and accompanying species assessment forms constitute the Service's system for monitoring and making annual findings on the status of petitioned species under sections 4(b)(3)(C)(i) and 4(b)(3)(C)(iii) of the Act.

A number of court decisions have elaborated on the nature and specificity of information that we must consider in making and describing the petition findings in the CNOR. The CNOR that published on November 9, 2009 (74 FR 57804), describes these court decisions in further detail. As with previous CNORs, we continue to incorporate information of the nature and specificity required by the courts. For example, we include a description of the reasons why the listing of every petitioned candidate species is both warranted and precluded at this time. We make our determinations of preclusion on a nationwide basis to ensure that the species most in need of listing will be addressed first and also because we allocate our listing budget on a nationwide basis (see below). Our preclusion determinations are further based upon our budget for listing activities for unlisted species only, and we explain the priority system and why the work we have accomplished has precluded action on listing candidate species.

In preparing this CNOR, we reviewed the current status of, and threats to, the 19 foreign species candidates for which we have received a petition to list. We find that the immediate issuance of a proposed rule and timely promulgation of a final rule for each of these species has been, for the preceding months, and continues to be, precluded by higher priority listing actions. Additional information that is the basis for this finding is found in the species assessments and our administrative record for each species.

The immediate publication of proposed rules to list these species was precluded by our work on higher priority listing actions, listed below, during the period from October 1, 2018, through September 30, 2020. Below we describe the actions that continue to preclude the immediate proposal and final promulgation of a regulation implementing each of the petitioned actions for which we have made a warranted-but-precluded finding, and we describe the expeditious progress we are making to add qualified species to, and remove species from, the Lists. We will continue to monitor the status of all candidate species, including petitioned species, as new information becomes available to determine if a change in status is warranted, including the need to emergency list a species under section 4(b)(7) of the Act. As described above, under section 4 of the Act, we identify and propose species for listing based on the factors identified in section 4(a)(1)—either on our own initiative or through the mechanism that section 4 provides for the public to petition us to add species to the Lists of Endangered or Threatened Wildlife and Plants.

Preclusion and Expeditious Progress

To make a finding that a particular action is warranted but precluded, the Service must make two determinations: (1) That the immediate proposal and timely promulgation of a final regulation is precluded by pending proposals to determine whether any species is endangered or threatened; and (2) that expeditious progress is being made to add qualified species to either of the Lists and to remove species from the Lists (16 U.S.C. 1533(b)(3)(B)(iii)).

Preclusion

A listing proposal is precluded if the Service does not have sufficient resources available to complete the proposal, because there are competing demands for those resources, and the relative priority of those competing demands is higher. Thus, in any given fiscal year (FY), multiple factors dictate whether it will be possible to undertake work on a proposed listing regulation or whether promulgation of such a proposal is precluded by higher priority listing actions—(1) the amount of resources available for completing the listing function, (2) the estimated cost of completing the proposed listing regulation, and (3) the Service's workload, along with the Service's prioritization of the proposed listing regulation, in relation to other actions in its workload.

Available Resources

The resources available for listing actions are determined through the annual Congressional appropriations process. In FY 1998 and for each fiscal year since then, Congress has placed a statutory cap on funds that may be expended for the Listing Program (spending cap). This spending cap was designed to prevent the listing function from depleting funds needed for other functions under the Act (for example, recovery functions, such as removing species from the Lists), or for other Service programs (see House Report 105-163, 105th Congress, 1st Session, July 1, 1997). The funds within the spending cap are available to support work involving the following listing actions: Proposed and final rules to add species to the Lists or to change the status of species from threatened to endangered; 90-day and 12-month findings on petitions to add species to the Lists or to change the status of a species from threatened to endangered; annual “resubmitted” petition findings on prior warranted-but-precluded petition findings as required under section 4(b)(3)(C)(i) of the Act; critical habitat petition findings; proposed rules designating critical habitat or final critical habitat determinations; and litigation-related, administrative, and program-management functions (including preparing and allocating budgets, responding to Congressional and public inquiries, and conducting public outreach regarding listing and critical habitat).

For more than two decades, the size and cost of the workload in these categories of actions have far exceeded the amount of funding available to the Service under the spending cap for completing listing and critical habitat actions under the Act. Since we cannot exceed the spending cap without violating the Anti-Deficiency Act (31 U.S.C. 1341(a)(1)(A)), each year we have been compelled to determine that work on at least some actions was precluded by work on higher-priority actions. We make our determinations of preclusion on a nationwide basis to ensure that the species most in need of listing will be addressed first, and because we allocate our listing budget on a nationwide basis. Through the listing cap and the amount of funds needed to complete court-mandated actions within the cap, Congress and the courts have in effect determined the amount of money remaining (after completing court-mandated actions) for listing activities nationwide. Therefore, the funds that remain within the listing cap—after paying for work needed to comply with court orders or court-approved settlement agreements—set the framework within which we make our determinations of preclusion and expeditious progress.

In FY 2019, through the Consolidated Appropriations Act of 2019 (Pub. L. 116-6, February 15, 2019), Congress appropriated the Service $18,318,000 under a consolidated cap for all domestic and foreign listing work, including status assessments, listing determinations, domestic critical habitat designations, and related activities. In FY 2020, through the Further Consolidated Appropriations Act, 2020 (Pub. L. 116-94, December 20, 2019), Congress appropriated $20,318,000 for all domestic and foreign listing work. The amount of funding Congress will appropriate in future years is uncertain.

Costs of Listing Actions

The work involved in preparing various listing documents can be extensive, and may include, but is not limited to: Gathering and assessing the best scientific and commercial data available and conducting analyses used as the basis for our decisions; writing and publishing documents; and obtaining, reviewing, and evaluating public comments and peer-review comments on proposed rules and incorporating relevant information from those comments into final rules. The number of listing actions that we can undertake in a given year also is influenced by the complexity of those listing actions; that is, more complex actions generally are more costly. The Service has developed several ways to determine the relative priorities of the actions within its workload to identify the work it can complete with the funding it has available under the spending cap for listing and critical habitat actions each year.

Prioritizing Listing Actions

The Service's Listing Program workload is broadly composed of four types of actions, which the Service prioritizes as follows: (1) Compliance with court orders and court-approved settlement agreements requiring that petition findings or listing determinations or critical habitat designations be completed by a specific date; (2) essential litigation-related, administrative, and listing program-management functions; (3) section 4 (of the Act) listing and critical habitat actions with absolute statutory deadlines; and (4) section 4 listing actions that do not have absolute statutory deadlines.

In previous years, the Service received many new petitions, including multiple petitions to list numerous species—in one example, a single petition sought to list 404 domestic species. The emphasis that petitioners placed on seeking listing for hundreds of species at a time through the petition process significantly increased the number of actions within the third category of our workload—actions that have absolute statutory deadlines for making findings on those petitions. In addition, the necessity of dedicating all of the Listing Program funding towards determining the status of 251 candidate species and complying with other court-ordered requirements between 2011 and 2016 added to the number of petition findings awaiting action. Because we are not able to work on all of these at once, the Service's most recent effort to prioritize its workload focuses on addressing the backlog in petition findings that has resulted from the influx of large multi-species petitions and the 5-year period in which the Service was compelled to suspend making 12-month findings for most of those petitions. The number of petitions that are awaiting status reviews and accompanying 12-month findings illustrates the considerable extent of this backlog. As a result of the outstanding petitions to list hundreds of species, and our efforts to make initial petition findings within 90 days of receiving the petition to the maximum extent practicable, at the beginning of FY 2020, we had 36 12-month petition findings for foreign species yet to be initiated and completed and 422 12-month petition findings for domestic species yet to be initiated and completed.

To determine the relative priorities of the outstanding 12-month petition findings, the Service developed a prioritization methodology (methodology) (81 FR 49248; July 27, 2016) after providing the public with notice and an opportunity to comment on the draft methodology (81 FR 2229; January 15, 2016). Under the methodology, we assign outstanding 12-month petition findings to one of five priority bins. (1) The species is critically imperiled; (2) strong data are already available about the status of the species; (3) new science is underway that would inform key uncertainties about the status of the species; (4) conservation efforts are in development or underway and likely to address the status of the species; or (5) the available data on the species are limited. As a general matter, 12-month findings with a lower bin number have a higher priority than, and are scheduled before, 12-month findings with a higher bin number. However, we make some limited exceptions—for example, we may schedule a lower-priority finding earlier if batching it with a higher-priority finding would generate efficiencies. We may also consider where there are any special circumstances whereby an action should be moved up (or down) in scheduling. Since before Congress first established the spending cap for the Listing Program in 1998, the Listing Program workload has required considerably more resources than the amount of funds Congress has allowed for the Listing Program. Therefore, it is important that we be as efficient as possible in our listing process.

Consistent with our methodology, within the five priority bins we determine the relative timing of foreign species actions using sub-ranking considerations, i.e., as tie-breakers for determining relative timing within each of the five bins. We consider the extent to which the protections of the Act would be able to improve conditions for that species and its habitat relative to the other species within the same bin, and in doing so, we give weight to the following considerations, in order from greater weight to lesser weight.

1. FWS Office of Law Enforcement (OLE) enforcement capacity—We prioritize species actions where OLE currently has the expertise and workforce capacity to identify taxa (e.g., some invertebrates require time-intensive inspection and expertise to differentiate listed from non-listed species). The capacity to identify taxa to effectively enforce a listing greatly increases the impact of the listing.

2. Species in trade to and/or from the United States—We prioritize actions for these species over those that are neither imported to nor exported from the United States because we can regulate import, export, and other activities with these species through permitting and incentivizing activities—including requirement of an enhancement finding or for scientific purposes—that benefit the conservation of the species, and by deterring and prohibiting activities that do not. In addition, the Lacey Act, in part, makes it illegal to import, export, transport, sell, receive, acquire, or purchase species taken, possessed, transported, or sold in violation of any U.S. law, treaty, or regulation. Thus, violations of the Act and its implementing regulations can be one component of a Lacey Act violation, further adding to the impact of the Act's listing.

3. Species in trade through U.S. ports (i.e., in-transit or transshipment)—We prioritize timing of actions for these species over those in trade outside of the United States because the capacity to track, regulate, and enforce this activity is greater than for species in trade outside the United States.

4. Within the United States, interstate trade—We prioritize timing of actions for species traded between States within the United States (interstate activity) over those not traded between States within the United States (intrastate activity). The Act prohibits certain activities with listed species in interstate commerce. FWS regulation of this interstate activity can result in incentivizing and permitting activities—including requirement of an enhancement finding or for scientific purposes—that benefit the conservation of the species, and deterring and prohibiting activities that do not. As noted above, such violations of the Act can also be one component of a Lacey Act violation.

5. CITES status—We use Convention on International Trade in Endangered Species of Wild Fauna and Flora (CITES) status to prioritize timing of listing actions under the Act for species as follows: Appendix II (highest priority for listing actions under the Act relative to other CITES-listed species) > Appendix III > Appendix I (lowest priority for listing actions under the Act relative to other CITES-listed species).

• Appendix I species: Appendix I includes species threatened with extinction that are or may be affected by trade, and trade in Appendix-I specimens may take place only in exceptional circumstances. With narrow exceptions, CITES does not allow primarily commercial international trade in Appendix-I species, and commercial use of Appendix-I specimens is also prohibited after import. Allowed international trade in these species is subject to a dual permitting process that requires both importing and exporting countries to find that the trade will not be detrimental to the species' survival. Thus, a listing under the Act would generally provide comparatively less additional conservation of these species than for CITES species that are not subject to this level of regulation.

• Appendix II species: Appendix II includes species that may become threatened with extinction if their trade is not regulated or because they need to be regulated so that trade in certain other Appendix-I or -II species may be effectively controlled. CITES allows international trade in Appendix-II species for primarily commercial purposes, and does not require the dual-permitting process established for Appendix-I species. Listing under the Act is more likely to improve conservation capacity for Appendix-II species than for the Appendix-I species that are comparatively more tightly controlled under CITES.

• Appendix III species: Appendix III includes species listed unilaterally by a range country to obtain international cooperation in controlling trade. International trade in Appendix-III species exported from a country that has included the species in Appendix III requires an export permit, while other exports and re-exports require documentation. Appendix-III species have fewer substantive conservation controls for trade than for Appendix-I or -II species. However, we generally prioritize the timing for Appendix-II species over Appendix-III species because the CITES Parties having collectively identified Appendix-II species as requiring trade regulation to avoid threatening their survival.

6. IUCN Red List status—We prioritize timing of actions for species considered at greater risk by the International Union for Conservation of Nature and Natural Resources (IUCN) over those that are considered at lesser risk. Per IUCN categories, Critically endangered (highest priority) > Endangered > Vulnerable > Near-threatened > Least concern > Data deficient > Not assessed > Extinct (lowest priority). We use this criterion to identify species for which listing would likely have greater positive impacts on their conservation because they are more likely in greater need of conservation. Although IUCN's rating system is not directly comparable to the definitions for an endangered species and threatened species under the Act (which is why this is considered low in our prioritization scheme), and does not establish any legal status, IUCN's Red List provides a readily-accessible, expert-validated assessment of conservation threat.

We applied the methodology and tie-breakers described above to develop a multi-year Foreign Species Workplan (Workplan) for completing the outstanding status assessments and accompanying 12-month findings. The purpose of the Workplan is to provide transparency and predictability to the public about when the Service anticipates completing specific 12-month findings while allowing for flexibility to update the Workplan when new information changes the priorities. In June 2020, the Service released its Foreign Species Workplan for addressing the Act's foreign listing decisions over the subsequent 5 years. The Workplan identified the Service's schedule for addressing all foreign species on the candidate list and 45 status reviews and accompanying 12-month findings, and identified which 12-month findings we would complete by FY 2025 for foreign species that have been petitioned for Federal protections under the Act. As we implement our Workplan and work on proposed rules for the highest-priority species, we increase efficiency by preparing multi-species proposals when appropriate, and these may include species with lower priority if they overlap geographically or have the same threats as one of the highest-priority species. The Foreign Species Workplan is available online at: https://www.fws.gov/endangered/what-we-do/foreign-listing-workplan.html.

As noted above, an additional way in which we determine relative priorities of outstanding actions in the section 4 program is application of the listing priority guidelines (48 FR 43098; September 21, 1983). Under those guidelines, which apply primarily to candidate species, we assign each candidate an LPN of 1 to 12, depending on the magnitude of threats (high or moderate to low), immediacy of threats (imminent or nonimminent), and taxonomic status of the species (in order of priority: monotypic genus (a species that is the sole member of a genus), a species, or a part of a species (subspecies or distinct population segment)). The lower the LPN, the higher the listing priority (that is, a species with an LPN of 1 would have the highest listing priority). A species with a higher LPN would generally be precluded from listing by species with lower LPNs, unless work on a proposed rule for the species with the higher LPN can be combined for efficiency with work on a proposed rule for other high-priority species.

Finally, proposed rules for reclassification of threatened species status to endangered species status (“uplistings”) are generally lower in priority because, as listed species, they are already afforded the protections of the Act and implementing regulations. However, for efficiency reasons, we may choose to work on a proposed rule to reclassify a species to endangered species status if we can combine this with higher-priority work.

Listing Program Workload

The Foreign Species Workplan that the Service released in 2020 outlined work for foreign species over the period from FY 2020 to FY 2025. Tables 1 and 2 under Expeditious Progress, below, identify the higher-priority listing actions that we completed through the end of FY 2020 (September 30, 2020), as well as those we have been working on in FY 2020 but have not yet completed. For FY 2020, our Foreign Species Workplan includes nine 12-month findings or proposed listing actions that are at various stages of completion at the time of this finding. In addition to the actions scheduled in the Foreign Species Workplan, the overall Listing Program workload also includes the National Listing Workplan that includes 74 12-month findings or proposed listing actions, development and revision of regulations required by new court orders or settlement agreements to address the repercussions of any new court decisions, and proposed and final critical habitat designations or revisions for species that have already been listed. The Service's highest priorities for spending its funding in FY 2019 and FY 2020 were actions included in the Workplan and actions required to address court decisions.

Expeditious Progress

As explained above, a determination that listing is warranted but precluded must also demonstrate that expeditious progress is being made to add and remove qualified species to and from the Lists. Please note that in the Code of Federal Regulations, the “Lists” are grouped as one list of endangered and threatened wildlife (50 CFR 17.11(h)) and one list of endangered and threatened plants (50 CFR 17.12(h)). However, the “Lists” referred to in the Act mean one list of endangered species (wildlife and plants) and one list of threatened species (wildlife and plants). For the purposes of evaluating our expeditious progress, when we refer to the “Lists,” we mean this latter grouping of one list of endangered species and one list of threatened species.

As with our “precluded” finding, the evaluation of whether expeditious progress is being made is a function of the resources available and the competing demands for those funds. As discussed earlier, the FY 2020 appropriations law included a spending cap of $20,318,000 for listing activities, and the FY 2019 appropriations law included a spending cap of $18,318,000 for listing activities.

As discussed below, given the limited resources available for listing, the competing demands for those funds, and the completed work catalogued in the tables below, we find that we are making expeditious progress in adding qualified species to the Lists.

The work of the Service's foreign listing program in FY 2019 and FY 2020 (as of September 30, 2020) includes all three of the steps necessary for adding species to the Lists: (1) Identifying species that may warrant listing (90-day petition findings); (2) undertaking an evaluation of the best available scientific data about those species and the threats they face to determine whether or not listing is warranted (a status review and accompanying 12-month finding); and (3) adding qualified species to the Lists (by publishing proposed and final listing rules). We explain in more detail how we are making expeditious progress in all three of the steps necessary for adding qualified species to the Lists (identifying, evaluating, and adding species). Subsequent to discussing our expeditious progress in adding qualified species to the Lists, we explain our expeditious progress in removing from the Lists species that no longer require the protections of the Act.

Generally, we first make expeditious progress in identifying species that may warrant listing. In FY 2019 and FY 2020 (as of September 30, 2020), we completed 90-day findings on petitions to list 14 species. However, for foreign species, we have not received petitions to list species in FY 2019 or FY 2020 (as of September 30, 2020).

Second, we are making expeditious progress in evaluating the best scientific and commercial data available about species and threats they face (status reviews) to determine whether or not listing is warranted. In FY 2019 and FY 2020 (as of September 30, 2020), we completed 12-month findings for 69 domestic species. In addition, we funded and worked on the development of 12-month findings for 34 domestic species and proposed listing determinations for 9 candidates, and we initiated 12-month findings for nine foreign species. Although we did not complete those actions during FY 2019 or FY 2020 (as of September 30, 2020), we made expeditious progress towards doing so by initiating and making progress on the status reviews to determine whether adding the species to the Lists is warranted.

Third, we are making expeditious progress in adding qualified species to the Lists. In FY 2019 and FY 2020 (as of September 30, 2020), we published a final listing rule for 1 foreign species and 7 domestic species, including final critical habitat designations for 1 of those domestic species and final protective regulations under the Act's section 4(d) for 2 of those domestic species. In addition, we published proposed rules to list an additional 20 domestic species (including concurrent proposed critical habitat designations for 13 species and concurrent protective regulations under the Act's section 4(d) for 14 species).

The Act also requires that we make expeditious progress in removing species from the Lists that no longer require the protections of the Act. Specifically, we are making expeditious progress in removing (delisting) species, as well as reclassifying endangered species to threatened species status (downlisting). Delisting and downlisting actions are funded through the recovery line item in the budget of the Endangered Species Program. Thus, delisting and downlisting actions do not factor into our assessment of preclusion; that is, work on recovery actions does not preclude the availability of resources for completing new listing work. However, work on recovery actions does count towards our assessment of making expeditious progress because the Act states that expeditious progress includes both adding qualified species to, and removing qualified species from, the Lists of Endangered and Threatened Wildlife and Plants. In FY 2019 and FY 2020 (as of September 30, 2020), we finalized downlisting of 2 species (one of which is a foreign species), finalized delisting rules for 7 domestic species, proposed downlisting for 7 domestic species, and proposed delisting of 11 domestic species. The rate at which the Service has completed delisting and downlisting actions in FY 2019 and FY 2020 (as of September 30, 2020) is higher than any point in the history of the Act, which underscores the expeditious progress we are making.

The tables below catalog the Service's progress in FY 2019 and FY 2020 (as of September 30, 2020) as it pertains to our evaluation of making expeditious progress. Table 1 includes completed and published foreign listing actions; Table 2 includes foreign listing actions funded and initiated in previous fiscal years and in FY 2020 that are not yet complete as of September 30, 2020; and Table 3 includes completed and published proposed and final downlisting and delisting actions for foreign species.

Table 1—Listing Actions Completed by the Service in FY 2019 and FY 2020
[As of September 30, 2020]
Publication date | Title | Action(s) | Federal Register citation
10/9/2018 | Threatened Species Status for Coastal Distinct Population Segment of the Pacific Marten | Proposed Listing—Threatened with Section 4(d) Rule and 12-Month Petition Finding | 83 FR 50574-50582
10/9/2018 | Threatened Species Status for Black-Capped Petrel With a Section 4(d) Rule | Proposed Listing—Threatened with Section 4(d) Rule and 12-Month Petition Finding | 83 FR 50560-50574
10/9/2018 | 12-Month Petition Finding and Threatened Species Status for Eastern Black Rail With a Section 4(d) Rule | Proposed Listing—Threatened with Section 4(d) Rule and 12-Month Petition Finding | 83 FR 50610-50630
10/9/2018 | Threatened Species Status With Section 4(d) Rule and Critical Habitat Designation for Slenderclaw Crayfish | Proposed Listing—Threatened with Section 4(d) Rule and Critical Habitat and 12-Month Finding | 83 FR 50582-50610
10/11/2018 | Threatened Species Status With Section 4(d) Rule and Critical Habitat Designation for Atlantic Pigtoe | Proposed Listing—Threatened with Section 4(d) Rule and Critical Habitat and 12-Month Finding | 83 FR 51570-51609
11/21/2018 | Endangered Species Status for the Candy Darter | Final Listing—Endangered | 83 FR 58747-58754
12/19/2018 | 12-Month Findings on Petitions to List 13 Species as Endangered or Threatened Species | 12-Month Petition Findings | 83 FR 65127-65134
12/28/2018 | Threatened Species Status for Trispot Darter | Final Listing—Threatened | 83 FR 67131-67140
2/26/2019 | Listing the Scarlet Macaw | Final Listing—Endangered northern subspecies; Threatened northern DPS of southern subspecies; and Threatened status for southern DPS and subspecies crosses based on similarity of appearance | 84 FR 6278-6311
4/4/2019 | 12-Month Findings on Petitions to List Eight Species as Endangered or Threatened Species | 12-Month Petition Findings
4/4/2019 | 12-Month Petition Finding and Endangered Species Status for the Missouri Distinct Population Segment of Eastern Hellbender | Proposed Listing—Endangered and 12-Month Petition Finding
4/26/2019 | 90-Day Findings for Four Species (3 domestic species and 1 foreign species) * | 90-Day Petition Findings
5/22/2019 | Threatened Species Status with Section 4(d) Rule for Neuse River Waterdog and Endangered Species Status for Carolina Madtom and Proposed Designations of Critical Habitat | Proposed Listings—Threatened Status with Section 4(d) Rule with Critical Habitat; Endangered Status with Critical Habitat and 12-Month Petition Findings
8/13/2019 | Endangered Species Status for Franklin's Bumble Bee | Proposed Listing—Endangered and 12-Month Petition Finding
8/15/2019 | 12-Month Findings on Petitions to List Eight Species as Endangered or Threatened Species | 12-Month Petition Findings
8/15/2019 | 90-Day Findings for Three Species | 90-Day Petition Findings
9/6/2019 | 90-Day Findings for Three Species | 90-Day Petition Findings
10/07/2019 | Twelve Species Not Warranted for Listing as Endangered or Threatened Species | 12-Month Petition Findings
10/21/2019 | Endangered Species Status for Barrens Topminnow | Final Listing—Endangered
11/08/2019 | 12-Month Finding for the California Spotted Owl | 12-Month Petition Finding
11/21/2019 | Threatened Species Status for Meltwater Lednian Stonefly and Western Glacier Stonefly With a Section 4(d) Rule | Final Listing—Threatened with Section 4(d) Rule
12/06/2019 | Endangered Species Status for Beardless Chinchweed With Designation of Critical Habitat, and Threatened Species Status for Bartram's Stonecrop With Section 4(d) Rule | Proposed Listings—Endangered with Critical Habitat; Threatened with Section 4(d) Rule and 12-Month Petition Findings
12/19/2019 | Five Species Not Warranted for Listing as Endangered or Threatened Species | 12-Month Petition Findings
12/19/2019 | 90-Day Findings for Two Species | 90-Day Petition Findings
01/08/2020 | Threatened Species Status for the Hermes Copper Butterfly With 4(d) Rule and Designation of Critical Habitat | Proposed Listing—Threatened with Section 4(d) Rule and Critical Habitat
01/08/2020 | Endangered Status for the Sierra Nevada Distinct Population Segment of the Sierra Nevada Red Fox | Proposed Listing—Endangered
05/05/2020 | Endangered Status for the Island Marble Butterfly and Designation of Critical Habitat | Final Listing—Endangered with Critical Habitat
05/15/2020 | Endangered Species Status for Southern Sierra Nevada Distinct Population Segment of Fisher | Final Listing—Endangered
7/16/2020 | 90-Day Finding for the Dunes Sagebrush Lizard | 90-Day Petition Finding
7/22/2020 | 90-Day Findings for Two Species | 90-Day Petition Findings
7/23/2020 | Four Species Not Warranted for Listing as Endangered or Threatened Species | 12-Month Petition Findings
8/26/2020 | Endangered Species Status for Marron Bacora and Designation of Critical Habitat | Proposed Listing-Endangered with Critical Habitat and 12-Month Petition Finding
9/1/2020 | Two Species Not Warranted for Listing as Endangered or Threatened Species | 12-Month Petition Findings
9/16/2020 | Findings on a Petition To Delist the Distinct Population Segment of the Western Yellow-Billed Cuckoo and a Petition To List the U.S. Population of Northwestern Moose ** | 12-Month Petition Finding
9/17/2020 | Threatened Species Status for Chapin Mesa milkvetch and Section 4(d) Rule with Designation of Critical Habitat | Proposed Listing-Threatened With Section 4(d) Rule and Critical Habitat
9/17/2020 | Threatened Species Status for Big Creek crayfish and St. Francis River Crayfish and With Section 4(d) Rule with Designation of Critical Habitat | Proposed Listings-Threatened With Section 4(d) Rule and Critical Habitat
9/29/2020 | Threatened Species Status for longsolid and round hickorynut mussel and Section 4(d) Rule With Designation of Critical Habitat, Not Warranted 12-Month Finding for purple Lilliput | Proposed Listings-Threatened With Section 4(d) Rule and Critical Habitat; 12-Month Petition Findings
9/29/2020 | Threatened Species Status for Wright's Marsh Thistle and Section 4(d) Rule With Designation of Critical Habitat | Proposed Listing-Threatened With Section (4) Rule and Critical Habitat

Table 2—Listing Actions Funded and Initiated by the Service in Previous FYs and in FY 2020 That Were Not Complete as of September 30, 2020
[Species denoted with an asterisk were subsequently completed.]
Species | Action
Canadian caribou—Dolphin/Union caribou | 12-month finding.
Canadian caribou—Peary Island caribou | 12-month finding.
Yangtze sturgeon * | Final listing determination.
Egyptian tortoise | 12-month finding.
Amur sturgeon | 12-month finding.
Emperor penguin | 12-month finding.
Russian sturgeon | 12-month finding.
Stellate sturgeon | 12-month finding.
Ship sturgeon | 12-month finding.
Persian sturgeon | 12-month finding.
northern spotted owl | 12-month finding.
false spike | 12-month finding.
Guadalupe fatmucket | 12-month finding.
Guadalupe orb | 12-month finding.
Texas fatmucket | Proposed listing determination or not warranted finding.
Texas fawnsfoot | Proposed listing determination or not warranted finding.
Texas pimpleback | Proposed listing determination or not warranted finding.
South Llano Springs moss | 12-month finding.
peppered chub * | 12-month finding.
whitebark pine * | Proposed listing determination or not warranted finding.
Key ringneck snake | 12-month finding.
Rimrock crowned snake | 12-month finding.
Euphilotes ancilla cryptica | 12-month finding.
Euphilotes ancilla purpura | 12-month finding.
Hamlin Valley pyrg * | 12-month finding.
longitudinal gland pyrg | 12-month finding.
sub-globose snake pyrg * | 12-month finding.
Louisiana pigtoe | 12-month finding.
Texas heelsplitter | 12-month finding.
triangle pigtoe | 12-month finding.
prostrate milkweed | 12-month finding.
alligator snapping turtle | 12-month finding.
Black Creek crayfish | 12-month finding.
bracted twistflower | Proposed listing determination or not warranted finding.
Canoe Creek clubshell * | 12-month finding.
Clear Lake hitch * | 12-month finding.
Doll's daisy * | 12-month finding.
frecklebelly madtom * | 12-month finding.
longfin smelt (San Francisco Bay-Delta DPS) | Proposed listing determination or not warranted finding.
magnificent Ramshorn | Proposed listing determination or not warranted finding.
Mt. Rainier white-tailed ptarmigan | 12-month finding.
Ocmulgee skullcap | 12-month finding.
Penasco least chipmunk | Proposed listing determination or not warranted finding.
Puerto Rico harlequin butterfly * | Proposed listing determination.
Puget oregonian snail * | 12-month finding.
relict dace * | 12-month finding.
Rocky Mountain monkeyflower * | 12-month finding.
sickle darter * | 12-month finding.
southern elktoe | 12-month finding.
southern white-tailed ptarmigan * | 12-month finding.
tidewater amphipod * | 12-month finding.
tufted puffin * | 12-month finding.
western spadefoot | 12-month finding.

Table 3—Completed Domestic and Foreign Recovery Actions (Proposed and Final Downlistings and Delistings) in FY 2019 and FY 2020
[As of September 30, 2020]
Publication date | Title | Action(s) | Federal Register citation
10/18/2018 | Removing Deseret Milkvetch (Astragalus desereticus) From the Federal List of Endangered and Threatened Plants | Final Rule—Delisting | 83 FR 52775-52786
02/26/2019 | Removing the Borax Lake Chub From the List of Endangered and Threatened Wildlife | Proposed Rule—Delisting | 84 FR 6110-6126
03/15/2019 | Removing the Gray Wolf (Canis lupus) From the List of Endangered and Threatened Wildlife | Proposed Rule—Delisting | 84 FR 9648-9687
05/03/2019 | Reclassifying the American Burying Beetle From Endangered to Threatened on the Federal List of Endangered and Threatened Wildlife With a 4(d) Rule | Proposed Rule—Downlisting | 84 FR 19013-19029
08/27/2019 | Removing Trifolium stoloniferum (Running Buffalo Clover) From the Federal List of Endangered and Threatened Plants | Proposed Rule—Delisting | 84 FR 44832-44841
09/13/2019 | Removing the Foskett Speckled Dace From the List of Endangered and Threatened Wildlife | Final Rule—Delisting | 84 FR 48290-48308
10/03/2019 | Removal of the Monito Gecko (Sphaerodactylus micropithecus) From the Federal List of Endangered and Threatened Wildlife | Final Rule—Delisting | 84 FR 52791-52800
10/07/2019 | Removal of Howellia aquatilis (Water Howellia) From the List of Endangered and Threatened Plants | Proposed Rule—Delisting | 84 FR 53380-53397
10/09/2019 | Removing the Kirtland's Warbler From the Federal List of Endangered and Threatened Wildlife | Final Rule—Delisting | 84 FR 54436-54463
10/24/2019 | Removal of the Interior Least Tern From the Federal List of Endangered and Threatened Wildlife | Proposed Rule—Delisting | 84 FR 56977-56991
11/05/2019 | Removing Oenothera coloradensis (Colorado Butterfly Plant) From the Federal List of Endangered and Threatened Plants | Final Rule—Delisting | 84 FR 59570-59588
11/26/2019 | Removing Bradshaw's Lomatium From the Federal List of Endangered and Threatened Plants | Proposed Rule—Delisting | 84 FR 65067-65080
11/26/2019 | Removal of the Nashville Crayfish From the Federal List of Endangered and Threatened Wildlife | Proposed Rule—Delisting | 84 FR 65098-65112
11/26/2019 | Reclassification of the Endangered June Sucker to Threatened With a Section 4(d) Rule | Proposed Rule—Downlisting | 84 FR 65080-65098
12/19/2019 | Reclassifying the Hawaiian Goose From Endangered to Threatened With a Section 4(d) Rule | Final Rule—Downlisting | 84 FR 69918-69947
01/02/2020 | Removing the Hawaiian Hawk From the Federal List of Endangered and Threatened Wildlife | Final Rule—Delisting | 85 FR 164-189
01/06/2020 | Removing the Kanab Ambersnail From the List of Endangered and Threatened Wildlife | Proposed Rule—Delisting | 85 FR 487-492
01/22/2020 | Reclassification of the Humpback Chub From Endangered to Threatened With a Section 4(d) Rule | Proposed Rule—Downlisting | 85 FR 3586-3601
03/10/2020 | Removing Lepanthes eltoroensis From the Federal List of Endangered and Threatened Plants | Proposed Rule—Delisting | 85 FR 13844-13856
4/23/2020 | Reclassifying the Golden Conure from Endangered to Threatened With a Section 4(d) Rule | Final Downlisting—Threatened with Section 4(d) Rule | 85 FR 22653-22663
04/27/2020 | Removing Arenaria cumberlandensis (Cumberland Sandwort) From the Federal List of Endangered and Threatened Plants | Proposed Rule—Delisting | 85 FR 23302-23315
06/01/2020 | Removing San Benito Evening-Primrose (Camissonia benitensis) From the Federal List of Endangered and Threatened Plants | Proposed Rule—Delisting | 85 FR 33060-33078
06/11/2020 | Removing the Borax Lake Chub From the List of Endangered and Threatened Wildlife | Final Rule—Delisting | 85 FR 35574-35594
7/24/2020 | Reclassification of Morro Shoulderband Snail (Helminthoglypta walkeriana) From Endangered to Threatened With a 4(d) Rule | Proposed Rule—Downlisting | 85 FR 44821-44835
8/19/2020 | Reclassification of Stephens' Kangaroo Rat From Endangered To Threatened With a Section 4(d) Rule | Proposed Rule—Downlisting | 85 FR 50991-51006
9/30/2020 | Reclassification of Virgin Islands Tree Boa From Endangered To Threatened With a Section 4(d) Rule | Proposed Rule—Downlisting
9/30/2020 | Reclassficiation of beach layia (Layia carnosa) From Endangered To Threatened With a Section 4(d) Rule | Proposed Rule—Downlisting

When a petitioned action is found to be warranted but precluded, the Service is required by the Act to treat the petition as resubmitted on an annual basis until a proposal or withdrawal is published. If the petitioned species is not already listed under the Act, the species becomes a “candidate” and is reviewed annually in the CNOR.

Another way that we have been expeditious in making progress in adding and removing qualified species to and from the Lists is that we have made our actions as efficient and timely as possible, given the requirements of the Act and regulations and constraints relating to workload and personnel. We are continually seeking ways to streamline processes or achieve economies of scale, such as batching related actions together for publication. Given our limited budget for implementing section 4 of the Act, these efforts also contribute toward our expeditious progress in adding and removing qualified species to and from the Lists.

Listing Priority Changes in Candidates

We reviewed the LPNs for all foreign candidate species and are changing the LPN for the Brasília tapaculo (Scytalopus novacapitalis).

Brasília Tapaculo

Brasília tapaculo is a small, shy, ground-dwelling bird with limited flight ability. The tapaculo is found in dense, swampy, gallery-forest habitat that is a smaller habitat component occurring within the wider tropical savanna or Cerrado of the Central Goia's Plateau of Brazil. Gallery forests are narrow fringes of thick streamside vegetation that occur on the edges of rivers and streams at elevations of approximately 800-1,000 meters (m) (2,625-3,281 feet (ft)).

The Brasília tapaculo is described as rare, but the population size is unknown. Despite a lack of data on population trends, the population is assumed to be declining because of the continued decline of the tapaculo's gallery-forest habitat. The species is currently known to occur in six protected areas and has been found on private land next to protected areas. These protected areas are limited in extent and size, with few larger than 25,000 hectares (ha) (61,776 acres (ac)). In the early 2000s, only 1.2 percent of the Cerrado was in protected areas; however, more recent estimates are 6.5 percent.

The primary threat to the species is ongoing habitat loss and fragmentation. The Cerrado is the largest, most diverse, and possibly most threatened tropical savanna in the world. Land in the Cerrado is currently being converted for intensive grazing and mechanized agriculture, including soybean and rice plantations. The tapaculo's gallery-forest habitat has been less affected by clearing for agriculture than the surrounding Cerrado. However, effects to gallery forest arise from wetland drainage and the diversion of water for irrigation and from annual burning of adjacent grasslands for agricultural space. Effects from climate change may also be negatively altering the Cerrado and the tapaculo's specialized gallery-forest habitat within the Cerrado by reducing the amount of available habitat for the species.

The IUCN recently changed the status of the species from near threatened to endangered, identifying the species' small and fragmented range as justification for the change in status. The Brazilian Red List assessed the species as endangered, noting severe fragmentation and continuing decline in area and quality of habitat. International trade is not a significant threat to the species, and the species is not included in the Appendices to CITES.

In the October 10, 2019, CNOR, we assigned the Brasília tapaculo an LPN of 8. After reevaluating the available information, we have determined that a change to an LPN of 2 is warranted at this time. The Brasília tapaculo does not represent a monotypic genus. Threats to the species are high in magnitude and are imminent. Habitat destruction and fragmentation and conversion of the Cerrado, mainly for agriculture and livestock, is ongoing and affects the small geographic range of the species. The species only occurs in a handful of small protected areas, and even in these areas the species is reported as rare. Therefore, an LPN of 2 is valid for this species to reflect imminent threats of high magnitude.

Findings for Petitioned Candidate Species

For all 19 candidates, we continue to find that listing is warranted but precluded as of the date of publication of this document. In the course of preparing proposed listing rules or not-warranted petition findings in the future, we continue to monitor new information about these species' status so that we can make prompt use of our authority under section 4(b)(7) of the Act in the case of an emergency posing a significant risk to any of these species.

Below are updated summaries for 18 petitioned candidates that we did not change the LPN, for which we published findings under section 4(b)(3)(B) of the Act. In accordance with section 4(b)(3)(C)(i), we treat any petitions for which we made warranted-but-precluded 12-month findings within the past year as having been resubmitted on the date of the warranted-but-precluded finding. We are making continued warranted-but-precluded 12-month findings on the petitions for these species.

Birds

Sira Curassow

The Sira curassow (Pauxi koepckeae) is a large game bird that is known only from the Cerros del Sira region of Peru. Size and coloration are similar to the southern helmeted curassow, but their ranges are separated by approximately 2,000 kilometers (1,243 miles), and the Sira curassow has a shorter and rounder pale-blue casque (a horn-like bony appendage above the bill) that is flattened against the head.

The Sira curassow inhabits cloud-forest habitat (a type of rainforest that occurs on high mountains in the tropics) at elevations from 1,100-1,450 m (3,609-4,757 ft) and above.

Historical population data are lacking, but the population is currently estimated at fewer than 250 mature individuals and is declining. The primary cause of the decline is ongoing hunting by local indigenous communities. Additionally, the Sira curassow's range within the Cerros del Sira region is limited (550 square kilometers (212 square miles)) and declining. Its habitat is being degraded by subsistence agriculture, forest clearing, road building, and associated rural development. Although the Sira curassow is legally protected in a large portion of its range in El Sira Communal Reserve, illegal hunting still occurs. A majority of the deforestation occurs outside of the El Sira Communal Reserve.

The species is classified as critically endangered on the IUCN Red List. The species is not known to be in international trade, and the species is not included in the Appendices to CITES. The species is also not included in the European Union Wildlife Trade Regulations.

In the October 10, 2019, CNOR, the Sira curassow was assigned an LPN of 2. After reevaluating the threats to the species, we have determined that no change in the LPN is warranted. The Sira curassow does not represent a monotypic genus. It faces threats that are high in magnitude based on its very small estimated population and limited range. The few locations where it exists continue to face pressure from hunting and habitat loss. The best scientific and commercial data available indicate that the population decline will continue in the future. Because the species is experiencing significant population declines due to both hunting and habitat loss and degradation, we have made no change to the LPN of 2, which reflects imminent threats of high magnitude.

Southern Helmeted Curassow

The southern helmeted curassow (Pauxi unicornis) is a game bird with a distinctive pale-blue, horn-like appendage (or casque) above its bill. The southern helmeted curassow is known only from central Bolivia on the eastern slope of the Andes, where large portions of its habitat are in national parks. The species inhabits dense, humid, foothill and lower montane forest and adjacent evergreen forest at altitudes between 450 and 1,500 m (1,476 and 4,921 ft).

The total population of southern helmeted curassow is estimated to be between 1,500 and 7,500 individuals and is declining. Hunting the species is estimated to be the primary threat to the species, followed by habitat loss and degradation. Although the national parks have been important for the preservation of the species, financial and human resources needed to protect park resources are limited. Within the parks, there are human settlements and ongoing encroachment, including illegal logging operations and forest clearing for farming. Rural development and road building limit the species' ability to disperse. Range reductions due to effects from climate change are also predicted for the southern helmeted curassow, when warming temperatures may cause the species to shift its distribution upslope and outside of protected national parks.

The southern helmeted curassow is classified as critically endangered on the IUCN Red List. Trade has not been noted internationally, and the species is not included in the Appendices to CITES. In 1997, the species was listed in Annex B of the European Union Wildlife Trade Regulations as part of a genus-level listing of all species in the genus Pauxi. The European Union Wildlife Trade Regulations are directly applicable in all European Union Member States; species listed on Annex B require a permit for import. In 2008, the species was moved from Annex B to Annex D (a lower level of protection) because it was one of the species that are not subject to levels of international trade that might be incompatible with their survival, but warrant monitoring of trade levels. The species continues to be listed on Annex D; species listed on Annex D require an import notification form completed by the importer for import.

In the October 10, 2019, CNOR, the southern helmeted curassow was assigned an LPN of 2. After reevaluating the threats to the species, we have determined that no change in the LPN is warranted because the threats are of high magnitude and are imminent. The southern helmeted curassow does not represent a monotypic genus. It faces threats that are high in magnitude based on its small, limited range. The few locations where it exists continue to face pressure from hunting and from habitat loss and destruction, and the population will likely continue to decline. Because the species is experiencing ongoing population declines and habitat loss, an LPN of 2 remains valid for this species, which reflects imminent threats of high magnitude.

Lord Howe Island Pied Currawong

Lord Howe Island pied currawong (Strepera graculina crissalis) is a fairly large, crow-like bird, endemic to Lord Howe Island, New South Wales, Australia. Lord Howe Island is a small island northeast of Sydney, Australia, with 28 smaller islets and rocks. The Lord Howe Island pied currawong occurs throughout the island but is most numerous in the mountainous areas on the southern end. It has also been recorded to a limited extent on the Admiralty Islands, located 1 kilometer (0.6 mile) north of Lord Howe Island. The Lord Howe Island pied currawong breeds in rainforests and palm forests, particularly along streams. Approximately 75 percent of Lord Howe Island, plus all outlying islets and rocks within the Lord Howe Island group, is protected under the Permanent Park Preserve, which has similar status to that of a national park.

The best current population estimate indicates that there are approximately 200 individuals. Researchers have determined that most, if not all, available habitat on Lord Howe Island is occupied based on the estimate of 200 individuals and estimates of the extent of available breeding habitat.

The potential for the introduction of other nonnative rodents to this island ecosystem has also been identified as an issue for this subspecies, although the subspecies has persisted among invasive black rats. Because the Lord Howe Island pied currawong often preys on small rodents, it may be subject to nontarget poisoning during ongoing rat-baiting programs. In June 2019, the Lord Howe Island Rodent Eradication Project began by placing poison bait traps around the island. To ensure the currawong's safety, project evaluators determined that approximately 50-60 percent of the wild population would need to be held in captive management during the eradication effort. The subspecies is known to sometimes eat rodents and feed them to their offspring. It is unlikely currawong targets the poison bait directly. A study is underway focusing on the effects of this project. In addition to its small population size, direct persecution (via shootings) by humans in retaliation for predation on domestic and endemic birds has been documented. The incidence of shootings has declined since the 1970s, when conservation efforts on Lord Howe Island began, but occasional shootings were still occurring as recently as 2006. Another potential threat to the currawong is rising global temperatures associated with climate change that may affect the cloud layer on the island's mountaintops—resulting in drying of the forest where the currawong gets about half of its food, possibly creating a food shortage for the subspecies.

The New South Wales Threatened Species Conservation Act of 1995 lists the Lord Howe Island pied currawong as vulnerable due to its extremely limited range and its small population size, as does Australia's Environment Protection and Biodiversity Conservation Act List of Threatened Fauna. The subspecies is not listed on the IUCN Red List, is not included in the Appendices to CITES, and this subspecies is not known to be in international trade.

In the October 10, 2019, CNOR, the Lord Howe Island pied currawong was assigned an LPN of 6. After reevaluating the threats to the Lord Howe Island pied currawong, we have determined that no change in the LPN for the subspecies is warranted. The Lord Howe Island pied currawong does not represent a monotypic genus or a full species. It faces threats that are high in magnitude due to a combination of factors including its small population size and risks from nontarget poisoning from rodent control. Aspects of the rodent-eradication program carry some risk, such as those associated with trapping and holding the birds, and the effects of a missed breeding cycle. If the rodent-eradication program is successful, effects from nontarget poisoning and any predation by rodents on currawong eggs will cease to be stressors for the currawong. However, because significant conservation efforts for the currawong have been implemented, and the subspecies is being closely managed and monitored, we find that the threats are nonimminent. Therefore, based on the best information available, an LPN of 6 remains valid to reflect nonimminent threats of high magnitude.

Chatham Oystercatcher

Chatham oystercatcher (Haematopus chathamensis) is the rarest oystercatcher in the world, with a recent population estimate of 300 to 320 individuals. It is native to the Chatham Island group located 860 kilometers (534 miles) east of mainland New Zealand. The species breeds along the coastline of four islands in the chain: Chatham, Pitt, South East, and Mangere. The Chatham oystercatcher is found mainly along rocky shores, including wide volcanic rock platforms and occasionally on sandy or gravelly beaches.

Predation of eggs and chicks, and to a lesser extent of adults, is thought to be the main threat to the Chatham oystercatcher population. Although the Mangere and South East nature reserves are free of all mammalian predators, nonnative mammalian predators inhabit Chatham and Pitt Islands. Feral cats are the most common predator of eggs. Other documented predators include gulls (Larus spp.), the native brown skua (Catharacta antarctica), weka (Gallirallus australis hectori), and domestic dogs. Nest destruction and disturbance by humans and livestock are also noted threats. Habitat loss and degradation has occurred from introductions of nonnative marram grass (Ammophila arenaria) in the early 1900s to revegetate destabilized dunes. The dense marram grass is unsuitable for Chatham oystercatcher nesting. Consequently, the Chatham oystercatcher is forced to nest closer to shore, where nests are vulnerable to tides and storm surges; up to 50 percent of eggs are lost in some years. Rising sea levels associated with climate change will likely affect future nesting success. Additionally, the Chatham oystercatcher may be at risk from loss of genetic diversity given its small population size.

The species has experienced a three-fold increase in its population since the first reliable census was conducted in 1987. Most of this increase occurred during a period of intensive management, especially predator control, from 1998 through 2004. The Chatham oystercatcher is listed as nationally critical by the NZDOC and it is protected under New Zealand's Wildlife Act. It is classified as endangered on the IUCN Red List, and the species is not included in the Appendices to CITES.

In the October 10, 2019, CNOR, the Chatham oystercatcher was assigned an LPN of 8. After reevaluating the threats to this species, we have determined no change in the LPN for the species is warranted. The Chatham oystercatcher does not represent a monotypic genus. The current population estimate is very small, and the species has a limited range. The NZDOC has taken measures to recover and maintain the species, and the population appears to have stabilized. However, the species continues to face moderate threats from predation, trampling, nest disturbance, storm surges, and habitat loss due to nonnative marram grass that are affecting nesting success and survival. These threats are ongoing and imminent. The LPN remains an 8 to reflect imminent threats of moderate magnitude.

Orange-Fronted Parakeet

Orange-fronted parakeet (Cyanoramphus malherbi) is considered the rarest parakeet in New Zealand. It is distributed on the South Island of mainland New Zealand and a few offshore islands. The three remaining naturally occurring populations are all within a 30-kilometer (18.6-mile) radius of one another in fragmented beech tree forests (Nothofagus spp.) of the upland valleys. Orange-fronted parakeets have also been captive-bred and released onto four predator-free islands where breeding has been confirmed.

The species' range contracted when its population was severely reduced in the late 1800s and early 1900s for unknown reasons. From 1999 to 2000, the mainland population crashed from perhaps 500 to 700 birds to a rough estimate of 100 to 200 birds as a result of ship rat or black rat (Rattus rattus) eruptions. Information on the current population status is mixed. In 2013, the total population was estimated between 290 and 690 individuals (130 to 270 on the mainland, and 160 to 420 on the islands). More recently, there are indications that both the offshore and mainland populations have declined to around 100 and 250 birds, respectively, but these are rough estimates. In 2019, the orange-fronted parakeet had one of its best breeding seasons in decades with more than three times as many nests compared to previous years and produced at least 150 wild-born chicks, potentially doubling the population.

The most prominent factors affecting the species on the mainland are predation by nonnative mammals such as weasels and rats (Rattus spp.), as well as habitat destruction. Trade of this species is not known to be a threat. Habitat loss and degradation has historically affected large areas of native forest on the mainland. The species' habitat is also degraded by introduced herbivores that alter forest structure in a way that reduces the available feeding habitat for the parakeet. Additionally, silviculture (care and cultivation) of beech forests has removed mature trees with nest cavities needed by the species. The parakeet competes with two other native parakeets for nest sites and food and with nonnative wasps and finches for food. Lastly, Psittacine beak and feather disease virus is a potential threat to this species. The disease was discovered in wild native birds (e.g., the red-fronted parakeet, Cyanoramphus novaezelandiae) in New Zealand in 2008. Infected birds generally follow one of three paths: They develop immunity, die within a couple of weeks, or become chronically infected. Chronic infections result in feather loss and deformities of beak and feathers. However, the disease has not been documented in the orange-fronted parakeet.

The species was uplisted from nationally endangered to nationally critical by the NZDOC, it is protected under New Zealand's Wildlife Act, and is listed as critically endangered on the IUCN's Red List. The orange-fronted parakeet is included in Appendix II to CITES.

In the October 10, 2019, CNOR, the orange-fronted parakeet was assigned an LPN of 8. After reevaluating the factors affecting the species, we have determined that no change in the LPN is warranted because NZDOC is actively managing for the species including monitoring known populations, successfully captive-breeding and releasing birds into the wild, and implementing predator control programs. The orange-fronted parakeet does not represent a monotypic genus. Although the species' available suitable nesting habitat in beech forests is limited, there appears to have been some success with predator control, captive-breeding, and translocations to offshore islands. The species faces threats (e.g., predation, habitat degradation, and competition for food and suitable nesting habitat) that are moderate in magnitude because the NZDOC continues to take measures to aid the recovery of the species. We find that the threats to this species are ongoing and imminent. Therefore, an LPN of 8 remains valid for this species to reflect imminent threats of moderate magnitude.

Bogotá Rail

The Bogotá rail (Rallus semiplumbeus) is a medium-sized nonmigratory bird. The species is found in the East Andes of Colombia, South America, and is largely restricted to areas at elevation from 2,500-4,000 m (8,202-13,123 ft) in and surrounding Bogotá, Colombia, on the Ubaté-Bogotá Plateau. This region formerly supported vast marshes and swamps, but few lakes with suitable habitat for the rail remain. The species is secretive, and wetland habitats most frequently used by rail are fringed by dense vegetation-rich shallows.

The current population size of the Bogotá rail is estimated between 1,000 and 2,500 mature individuals and is thought to be declining. The primary threat to the rail is habitat loss and degradation of wetlands. Approximately 8 million people live in the City of Bogotá, and 11 million in the larger metro area. The wetlands have experienced a 97 percent loss in historical extent with few suitably vegetated marshes remaining. Additionally, road building may result in further habitat loss and human interference, including introduction of nonnative species in previously stable wetland environments. The Bogotá rail is listed as endangered by IUCN. The species is not known to be in international trade, and is not included in the Appendices to CITES.

In the October 10, 2019, CNOR, the Bogotá rail was assigned an LPN of 2. After reevaluating the threats to this species, we have determined that no change in the LPN for the species is needed. The Bogotá rail does not represent a monotypic genus. It faces threats that are high in magnitude due to the pressures on the species' habitat. Its range is very small and is rapidly contracting because of widespread habitat loss and degradation of wetlands. Although portions of the Bogotá rail's range occur in protected areas, most of the savanna wetlands are unprotected. The population is small and is estimated to be declining. The factors affecting the species are ongoing and imminent. Thus, the LPN remains at 2 to reflect imminent threats of high magnitude.

Takahē

The takahē (Porphyrio hochstetteri) is the largest extant rail in the world. It is flightless. The takahē was once widespread in the forest and grassland ecosystems on the South Island of New Zealand. It was thought to be extinct until it was rediscovered in the Murchison Mountains on the South Island in 1948, inhabiting approximately 650 square kilometers (251 square miles). In addition to its native range on the mainland, the takahē has been introduced to offshore islands and mainland sanctuaries. When rediscovered in 1948, it was estimated that the population consisted of 100 to 300 birds, and the minimum total population now rests at 306 individuals.

Several factors have historically led to the species' decline, including hunting, competition from introduced herbivores (animals that feed on plants), and predators such as weasels and the weka, a flightless woodhen that is endemic to New Zealand. Currently, weasel predation appears to be the most significant of these threats. Weasel trapping is an effective tool at slowly increasing survival and reproductive output of takahē; however, control efforts do not completely eliminate the threat.

Takahē is a long-lived bird, potentially living between 14 and 20 years, and has a low reproductive rate, with clutches consisting of one to three eggs. Severe weather in the Murchison Mountains (cold winters and high snowfall) may also be a limiting factor to the takahē. The population of takahē remains very small and has low genetic diversity relative to other species. The New Zealand Department of Conservation (NZDOC) is currently attempting to manage further loss of genetic diversity through translocations. Additionally, NZDOC has implemented a captive-breeding and release program to supplement the mainland population and has established several reserve populations on islands and fenced mainland sites; these actions are having a positive effect on population growth. New Zealand considers the takahē a nationally vulnerable species and it is protected under New Zealand's Wildlife Act. The takahē is listed as endangered on the IUCN Red List. The species is not known to be in international trade, and the species is not included in the Appendices to CITES.

In the October 10, 2019, CNOR, the takahē was assigned an LPN of 8. After reevaluating the threats to the takahē, we have determined that no change in the classification of the magnitude and imminence of threats to the species is warranted at this time. The takahē does not represent a monotypic genus. Limited suitable habitat and the threat of predation, combined with the takahē's small population size and naturally low reproductive rate, are threats to this species that are moderate in magnitude. Although it has a small population, has limited suitable habitat, and may experience inbreeding depression, because the NZDOC is actively involved in measures to aid the recovery of the species, we find the threats are moderate in magnitude. Despite the conservation efforts, the threats are ongoing and imminent. Therefore, the LPN remains at 8 to reflect imminent threats of moderate magnitude.

Black-Backed Tanager

Black-backed tanager (Tangara peruviana) is a small bird endemic to the coastal Atlantic Forest region of southeastern Brazil. It is currently found in the coastal states of Espirito Santo, Rio de Janeiro, São Paulo, Paraná, Santa Catarina, and Rio Grande do Sul. The species is generally restricted to the sand-forest restinga habitat, which is a coastal component habitat of the greater Atlantic Forest complex. Restingas are herbaceous, shrubby, coastal sand-dune habitats. The black-backed tanager is primarily found in undisturbed vegetated habitat but has also been observed in secondary-growth forests. It has also been observed visiting gardens and orchards of houses close to forested areas. The black-backed tanager is one of just a few tanagers known to migrate seasonally. Within suitable habitat, the black-backed tanager is generally not considered rare. The population estimate is between 2,500 to 10,000 mature individuals. Populations currently appear to be small, fragmented, and declining. The estimated extent of the resident and breeding range in 2015 was 9,400 square kilometers (3,629 square miles). However, estimates have since increased to 316,000 square kilometers (122,008 square miles) because of updated information in the reported range in coastal areas south of Rio de Janeiro beyond Florianopolis and into the northeast corner of Rio Grande do Sul.

The primary factor affecting the species is rapid and widespread loss and fragmentation of habitat because of urban expansion and beachfront development. The black-backed tanager's remaining suitable habitat in the areas of Rio de Janeiro and Paraná have largely been destroyed, and habitat loss and degradation will likely increase in the future. Additional habitat loss from sea-level rise associated with global climate change may compound an increased demand by humans to develop the remaining land. Small portions of this species' range occur in six protected areas, but intact lowland forest, restinga, and mangrove habitats used by resident black-backed tanagers on the northern part of Santa Catarina Island is unprotected.

The black-backed tanager is classified as vulnerable by the IUCN. The species is also listed as vulnerable in Brazil. It is not included in the Appendices to CITES, although it has infrequently been illegally sold in the pet trade.

In the October 10, 2019, CNOR, the black-backed tanager was assigned an LPN of 8. After reevaluating the available information, we have determined that no change in the LPN for this species is warranted at this time. The black-backed tanager does not represent a monotypic genus. We find that the threat from habitat loss is moderate in magnitude due to the species' fairly large range, its existence in protected areas, and an indication of some flexibility in its diet and habitat suitability. Threats are imminent because the species is at risk due to ongoing and widespread loss of habitat due to beachfront and related development. Therefore, an LPN of 8 remains valid for this species to reflect imminent threats of moderate magnitude.

Yellow-Browed Toucanet

Yellow-browed toucanet (Aulacorhynchus huallagae) is a rare bird in the toucan family. The species has a small range on the eastern slope of the Andes of north-central Peru, at elevations of 2,000-2,600 m (6,562-8,530 ft). The yellow-browed toucanet occurs in humid montane forests and occupies four known locations within its small range. Part of the species' range is within national parks. The population status is not well known because of the inaccessibility of its habitat, but is estimated at 600 to 1,500 mature individuals.

Deforestation for livestock, agriculture, timber, and gold mining appears to be the primary threat. Habitat loss and destruction from deforestation for agriculture have been widespread in the region. The yellow-browed toucanet is described as scarce wherever found, and ongoing population and habitat declines resulting from habitat loss are assumed.

The yellow-browed toucanet is classified as endangered on the IUCN Red List, as well as by the Peruvian government. The species is not included in the Appendices to CITES.

In the October 10, 2019, CNOR, the yellow-browed toucanet was assigned an LPN of 2. After reevaluating the available information, we find that no change in the LPN is warranted at this time. The yellow-browed toucanet does not represent a monotypic genus. The estimated population is small with just three known locations within a restricted range. The magnitude of threats to the habitat remains high, and its population is likely declining. Therefore, an LPN of 2 remains valied for this species to reflect imminent threats of high magnitude.

Gizo White-Eye

Gizo white-eye (Zosterops luteirostris) is a small passerine (perching) bird described as warbler-like. It is endemic to the small island of Ghizo in the Solomon Islands in the South Pacific Ocean, east of Papua New Guinea. The total range of the species is estimated to be less than 35 square kilometers (13.5 square miles), of which less than 1 square kilometer (0.39 square mile) is the old-growth forest that the species seems to prefer. Little information is available about this species and its habitat. It is locally common in old-growth forest patches and less common elsewhere. The species has been observed in a variety of habitats on the island, but it is unknown whether sustainable populations can exist outside of forested habitats. The population is estimated to be between 250 and 1,000 mature individuals and is suspected to be declining.

Habitat loss appears to be the main threat. The loss of old-growth forested areas and less suitable secondary growth forests because of logging, conversion to agricultural areas, and local resource extraction for firewood affect the species. Forested areas around Gizo—a town on Ghizo Island and the capital of Solomon Islands Western Province—that previously supported the species were degraded by the 2007 tsunami and were found less likely to support the species even 5 years later in 2012. The dense human population of the Solomon Islands may also be adversely affecting the Gizo white-eye and its habitat. There has been prolific growth in human settlement on Ghizo Island, mainly in the form of temporary housing. Small populations of the Gizo white-eye are likely subject to both demographic and unpredictable environmental events that can contribute to extirpations.

The IUCN Red List classifies this species as endangered. It is not included in the Appendices to CITES, and this species is not known to be in international trade.

In the October 10, 2019, CNOR, the Gizo white-eye was assigned an LPN of 2. After reevaluating the available information, we find that no change in the LPN is warranted. The Gizo white-eye does not represent a monotypic genus. It faces threats that are high in magnitude due to declining suitable habitat and its small, declining population size. The best information available indicates that forest clearing is occurring at a pace that is rapidly denuding its habitat; secondary-growth forest continues to be converted to agricultural purposes. Additionally, the human population on the small island is likely contributing to the reduction in old-growth forest for local uses such as timber and clearing for gardens. These threats to the species are ongoing, high in magnitude, and imminent. Therefore, an LPN of 2 remains valid for this species to reflect imminent threats of high magnitude.

Helmeted Woodpecker

Helmeted woodpecker (Dryocopus galeatus) is a fairly small woodpecker native to regions of southern Brazil, eastern Paraguay, and northeastern Argentina. The helmeted woodpecker is nonmigratory, occurring in subpopulations in suitable habitat within its range. Characteristic habitat is large tracts of well-preserved southern Atlantic Forest in both lowland and montane areas from sea level up to elevations of 1,000 m (3,280 ft). The species prefers mature (old-growth) trees in tropical and subtropical semi-deciduous forests as well as in mixed deciduous coniferous forests.

The helmeted woodpecker is one of the rarest woodpeckers in the Americas. Its population declined sharply between 1945 and 2000, in conjunction with the clearing of mature forest habitat, and is currently estimated at 400-8,900 individuals. The principal threat to the helmeted woodpecker is loss, degradation, and fragmentation of its Atlantic Forest habitat. Forest clearing has recently slowed, and the species occurs in at least 17 protected areas throughout its range. However, habitat degradation continues, and the population is likely declining. Competition for nest cavities is also likely a limiting factor. The helmeted woodpecker is listed as endangered in Brazil and as vulnerable by the IUCN. It is not included in the Appendices to CITES.

In the October 10, 2019, CNOR, the helmeted woodpecker was assigned an LPN of 8. After reevaluating the available information, we find that no change in the LPN for the helmeted woodpecker is warranted. The helmeted woodpecker does not represent a monotypic genus. The magnitude of threats to the species is moderate because the species' range is fairly large. The threats are imminent because the forest habitat upon which the species depends is still being altered and degraded. Therefore, an LPN of 8 continues to be valid for this species to reflect imminent threats of moderate magnitude.

Okinawa Woodpecker

Okinawa woodpecker (Dendrocopos noguchii syn. Sapheopipo noguchii) is a relatively large woodpecker found on Okinawa Island, Japan, and one of the world's rarest woodpeckers. The species prefers subtropical evergreen broadleaf forests that are undisturbed and mature. It currently occurs within the forested areas in the northern part of the island, generally in the Yambaru forest, and in some undisturbed forest in coastal areas. Most of the older forests that support the species are within the Jungle Warfare Training Center (formerly known as the Northern Training Area or Camp Gonsalves), part of the U.S. Marine Corps installation on Okinawa Island.

Deforestation in the Yambaru region has been cited as the main cause of the Okinawa woodpecker's reduced habitat and population. As of the mid 1990s, only 40 square kilometers (15 square miles) of suitable habitat was available for this species. While most of the activities associated with habitat loss appear to have ceased, the Okinawa woodpecker still suffers from limited suitable habitat and a small population size. This situation makes it vulnerable to extinction from disease and natural disasters such as typhoons. Additionally, the species is vulnerable to introduced predators such as feral dogs and cats, Javan mongoose (Herpestes javanicus), and Japanese weasel (Mustela itatsi).

In 2016, the Japanese Government designated Yambaru National Park and nominated the northern part of Okinawa Island (including Yambaru National Park) as a United Nations Educational, Scientific and Cultural Organization World Heritage Centre. The species is listed as critically endangered in the Red List of Threatened Birds in Japan and protected from acquisition and transfer under Japan's wildlife protection system. Okinawa woodpecker is not included in the Appendices to CITES, and is not known to be in international trade.

In the October 10, 2019, CNOR, the Okinawa woodpecker was assigned an LPN of 2. After reevaluating the available information, we find that no change in the LPN is warranted. The Okinawa woodpecker does not represent a monotypic genus. Threats to the species are high in magnitude due to the scarcity of its old-growth habitat. The population is very small and is likely declining. Although new protected areas have been established that will likely benefit the Okinawa woodpecker, it is not yet clear that these areas will be fully protected from logging and other anthropogenic development and nonnative predators. Even though threats from logging have been reduced, it will take many years for secondary and clear-cut forest habitat to mature such that it is suitable for the woodpecker. The threats to the species are ongoing, imminent, and high in magnitude due to its restricted range, small population size, past habitat loss, and endemism. Therefore, an LPN of 2 remains valid for this species to reflect imminent threats of high magnitude.

Invertebrates

Colorado Delta Clam

Colorado delta clam (Mulinia modesta) is a relatively large, estuarine bivalve that was once very abundant at the head of the Gulf of California in the Colorado River estuary in Mexico prior to the construction of dams on the Colorado River. Recognizing that the clam is M. modesta, we now also recognize that the clam has a broader distribution into the northern and central portions of the Gulf of California. Therefore, the species is more widespread and found in the upper, northern, and central portions of the Gulf of California, and is capable of living in salinities ranging from brackish (mixture of salt and fresh water) to full seawater.

Information regarding abundance of the Colorado delta clam in the Gulf of California is limited. The minimum average standing population of the Colorado delta clam in the upper Gulf was estimated to be at least 5 billion individuals over the past 1,000 years to account for the shells accumulated in ridges, with the delta clam accounting for 84-95 percent of all bivalve mollusks in the upper Gulf. However, after decades of dam building on the Colorado River and its tributaries, the Colorado delta clam is estimated to be 6 percent as abundant in the upper Gulf as it was before dam construction began. While it is clear the clam has declined dramatically in the upper Gulf where it was most abundant before Colorado River dams were built, we are not aware of total population estimates covering its full range because benthic surveys of the near-coastal invertebrate macrofauna in central and southern Gulf are lacking.

The species has not been assessed for the IUCN Red List. It is not commercially harvested or known to be in international trade, and is not included in the Appendices to CITES.

Although the specific causes for the dramatic decline of the clam in the Colorado delta and upper Gulf of California region have not definitively been identified, several researchers have indicated that it was a consequence of decrease in the Colorado River's inflow to the estuary since completion of the dams. Environmental changes to the estuary associated with the decrease in river inflow include increased salinity, decreased sediment load, decreased input of naturally derived nutrients, and elimination of the spring/summer flood. Dams and diversions along the Colorado River have greatly affected the estuarine environment of the Colorado delta and have likely caused the localized decline in abundance of the clam in this region. However, the best available information does not indicate that dams and diversions are a stressor for the Colorado delta clam elsewhere within its range in the northern and central portions of the Gulf of California. Additionally, stressors for the clam throughout its range may arise from other natural or manmade factors affecting the clam's continued existence, such as pollution-related problems and effects from climate change, which are likely to increase in the future.

In the October 10, 2019, CNOR, the Colorado delta clam was assigned an LPN of 8. With the confirmation that the clam is Mulinia modesta, we recognize that it has a broader distribution into the northern and central portions of the Gulf of California and is capable of living in full seawater. However, we lack information about the distribution and viability of populations of the clam outside of the Colorado delta region. Despite the conservation measures in place (primarily portions of the species' range occurring within two large protected areas), the species continues to face habitat loss and degradation in the Colorado delta region due to dams and diversions on the Colorado River, along with other changes associated with decrease in river inflow and pollution. Because this threat appears to be affecting the clam in upper Gulf of California, and not in the remainder of its range, it is moderate in magnitude. The threat of habitat loss and degradation in the Colorado delta region is ongoing and imminent. Therefore, an LPN of 8 remains valid for this species to reflect imminent threats of moderate magnitude.

Fluminense Swallowtail

Fluminense swallowtail (Parides ascanius) is a black, white, and red swallowtail butterfly. The species may be confused with the Harris' mimic swallowtail, but the Harris' mimic has a red streak on the underside of its wing. The fluminense swallowtail also inhabits the restinga (sand forest) habitats of the coastal Atlantic Forest of Brazil within the State of Rio de Janeiro. There are at least eight confirmed subpopulations of fluminense swallowtail, and several other small, likely ephemeral, subpopulations are currently being studied (i.e., 8-12 estimated subpopulations). The overall number of subpopulations reported for the species has declined from fewer than 20 colonies in 1994, to 8 to 12 in 2017. The butterfly is described as seasonally common, with sightings of up to 50 individuals at one colony in a single morning. A study at Biological Reserve of Poço das Antas estimated that the subpopulation ranged from 10 to 50 individuals. The best available information does not provide estimates for butterfly numbers in the remaining subpopulations. The best available information indicates that there is a decline of subpopulations as well as a decrease in the numbers of individuals within each subpopulation. An estimate of the total area occupied by this species is less than 500 square kilometers (193 square miles).

Habitat loss, degradation, and fragmentation are the primary threats to this species. The species occupies highly specialized habitat and requires large areas to maintain a viable colony. Based on a number of estimates, 88 to 95 percent of the area historically covered by tropical forests within the Atlantic Forest biome has been converted or severely degraded as a result of human activities. Habitat loss and destruction is caused primarily by road and building construction, drainage of swamps, and vegetation suppression, and the remaining tracts are severely fragmented. Fire, either wildfire or human-caused, has the potential to destroy the few remaining occupied habitats. This coastal butterfly may also be affected by habitat loss from sea-level rise, which may be compounded by human use of the remaining land for infrastructure and housing. The species' life history also contributes to its scarcity. Fluminense swallowtails, whose larvae feed only on a single plant species, tend to be more affected by habitat degradation than species with multiple food sources. Illegal collection of the fluminense swallowtail is likely occurring and ongoing. The species is located near urban areas and is easy to capture. Recently, multiple specimens of fluminense swallowtail have been advertised online with costs ranging from $220 to $700 USD. The impact of illegal collection to the fluminense swallowtail is difficult to assess, but removal of individuals from the remaining small and fragmented populations could, in combination with other stressors, contribute to local extirpations.

Only one of the subpopulations is presently found within a large protected area (Poço das Antas Biological Reserve), and the majority of the remaining populations are on smaller, fragmented parcels with limited or no protections and are vulnerable to extirpation. The fluminense swallowtail was the first invertebrate to be officially noted on the list of Brazilian animals threatened with extinction in 1973. The species is currently categorized by Brazil as endangered. It has been classified as vulnerable by the IUCN Red List since 1983, and it is not included in the Appendices to CITES. However, the European Commission listed the species on Annex B of the European Union Wildlife Trade Regulations; species listed on Annex B require a permit for import.

In the October 10, 2019, CNOR, the fluminense swallowtail was assigned an LPN of 2. After reevaluating the stressors to this species, we have determined that no change to the LPN is warranted. The fluminense swallowtail does not represent a monotypic genus. The overall number of subpopulations recorded for the species has declined from previous records of fewer than 20 colonies to approximately 8 to 12, and the species continues to decline. Threats are high in magnitude and imminent because of ongong habitat loss and fragmentation, catastrophic events of wildfire, and illegal collection. Only one of the known subpopulations is presently found within a large protected area. The majority of the remaining subpopulations are on small, fragmented parcels with limited or no protections and are vulnerable to extirpation. Despite the conservation measures in place, the species continues to face stressors (e.g., habitat loss and destruction, and illegal collection and trade). Therefore, an LPN of 2 remains valid for this species to reflect imminent threats of high magnitude.

Hahnel's Amazonian Swallowtail

Hahnel's Amazonian swallowtail (Parides hahneli) is a large black and yellow butterfly endemic to Brazil. It is known from three remote locations along the tributaries of the middle and lower Amazon River basin in the states of Amazonas and Pará. Its preferred habitat is on old sand strips (stranded beaches) that are overgrown with dense scrub vegetation or forest. Hahnel's Amazonian swallowtail is described as very scarce and extremely localized in association with its specialized habitat and its larval host plant. Population size and trends are not known for this species.

Loss of habitat from deforestation is the primary threat to the species. Brazil reported the greatest loss of primary forest from 1990 to 2015, and the states of Pará and Amazonas experienced high rates of deforestation in the last decade. Habitat loss and destruction will likely continue in the future. Additionally, habitat alteration and destruction for dam construction, agriculture, and cattle grazing, as well as crop transportation, are ongoing in Pará and Amazonas. Collection is also a potential threat for Hahnel's Amazonian swallowtail. The species has been collected for commercial trade and also may be reared for trade. Locations in the wild have been kept secret given the high value of this butterfly to collectors. Multiple specimens of Hahnel's Amazonian swallowtail were noted for sale or sold from locations in the United States for $70 to $500 USD and from Germany (approximately $166 USD).

Hahnel's Amazonian swallowtail is classified as data deficient on the IUCN Red List. The species is listed as endangered on the State of Pará's list of threatened species, but it is not listed by the State of Amazonas or by Brazil. Hahnel's Amazonian swallowtail is not included in the Appendices to CITES. It is listed on Annex B of the European Union Wildlife Trade Regulations; species listed on Annex B require a permit for import.

In the October 10, 2019, CNOR, the Hahnel's Amazonian swallowtail was assigned an LPN of 2. After reevaluating the threats to the Hahnel's Amazonian swallowtail, we have determined that no change in the LPN is warranted. This swallowtail does not represent a monotypic genus. It faces threats that are high in magnitude and imminent due to its small endemic population and the limited and decreasing availability of its highly specialized habitat. Habitat alteration and destruction are ongoing in Pará and Amazonas where the butterfly is found and are likely to continue. Potential impacts from collection are unknown but could, in combination with other stressors, contribute to local extirpations. Therefore, an LPN of 2 remains valid for this species to reflect imminent threats of high magnitude.

Harris' Mimic Swallowtail

Harris' mimic swallowtail (Mimoides lysithous harrisianus) is a medium-sized black, white, and red swallowtail butterfly that inhabits the mixed dense and open scrubby restinga (sand forest) habitats within the coastal Atlantic Forest of Brazil. The Harris' mimic swallowtail butterfly mimics three butterfly species in the Parides genus, primarily the Flumenense swallowtail (Parides ascanius). The butterflies it mimics sequester toxins from host plants, rendering them toxic to most predators. The subspecies historically occurred in southern Espírito Santo State and along the coast of the State of Rio de Janeiro, Brazil. Records indicated that there are a total of five sites occupied by the butterfly in the State of Rio de Janeiro. Two areas are within protected national parks, and the other sites appear to be under municipal conservation with uncertain protected status, including sites in the City of Rio de Janeiro that are located in small patches of vegetation and are possibly at risk of extirpation. The best-studied site at Barra de São João has maintained a stable and viable size for nearly two decades, but there is limited information on its status since 2004. The best available data do not indicate recent population numbers in any of the other colonies or locations.

Habitat destruction has been the main threat and is ongoing. Based on a number of estimates, 88 to 95 percent of the area historically covered by tropical forests within the Atlantic Forest biome has been converted or severely degraded as the result of human activities. In addition to the overall loss and degradation of its habitat, the remaining tracts of its habitat are severely fragmented. Fire, either wildfire or human-caused, is a stressor for Harris' mimic swallowtail due to its potential to destroy the few remaining occupied habitats. Sea-level rise may result in habitat loss, and this loss from sea-level rise may be compounded by an increased demand by humans to use remaining land for housing and infrastructure. Collection may also affect this butterfly. Although Harris' mimic swallowtail is categorized as endangered on the list of Brazilian fauna threatened with extinction, and collection and trade of the subspecies is prohibited, it has been offered for sale on the internet. Specimens of Harris' mimic swallowtail are routinely advertised online ranging from $1,000 to $2,200 U.S. dollars (USD), indicating that illegal collection and trade may be occurring and demand for this butterfly is high. Harris' mimic swallowtail is not currently on the IUCN Red list, although it was identified as a threatened or extinct subspecies in the family Papilionidae in the 1994 IUCN Red List. The subspecies is not included in the Appendices to CITES. It is also not regulated on the annexes to European Union Wildlife Trade Regulations.

In the October 10, 2019, CNOR, Harris' mimic swallowtail was assigned an LPN of 3. After reevaluating the threats to this subspecies, we have determined that no change in the LPN is warranted. Harris' mimic swallowtail is a subspecies that is not within a monotypic genus. Threats are high in magnitude and imminent because the butterfly only occurs in a few small, fragmented colonies, habitat loss and degradation is ongoing, and the potential for catastrophic events such as fire remains. Additionally, although the subspecies is protected by Brazilian law and several of the colonies are located within protected areas, the high price advertised online for specimens indicates that there is demand for the subspecies, likely from illegal collection. Despite the conservation measures in place, the species continues to face stressors (e.g., habitat loss and destruction, and illegal collection and trade). Therefore, an LPN of 3 remains valid for this subspecies to reflect imminent threats of high magnitude.

Jamaican Kite Swallowtail

Jamaican kite swallowtail (Protographium marcellinus, syn. Eurytides marcellinus) is a small blue-green and black butterfly endemic to Jamaica. This butterfly is regarded as Jamaica's most endangered butterfly. The species occurs in three limestone forest habitats containing dense stands of its only known larval host plant, Oxandra lanceolata, known as black lancewood or West Indian lancewood, and these stands are rare. There are five known sites that support colonies of the Jamaican kite swallowtail, although there is no known estimate of population size. Two of the sites may be recently extirpated, one is thought to be tenuous, and two are viable with strong numbers in some years.

Habitat loss, degradation, and fragmentation are considered the primary factors affecting the Jamaican kite swallowtail. Historical habitat loss and destruction occurred when forests were cleared for agriculture and timber extraction. Only 8 percent of the total land area of Jamaica is natural forest with minimal human disturbance. More recent habitat destruction is occurring primarily from sapling cutting for yam sticks, fish pots, or charcoal. Charcoal-making also carries the risk of fire, which may destroy pupae in the leaf litter. Additionally, mining for limestone that is used for roadbuilding and bauxite production that is an important economic activity pose threats to remaining forested tracts. The two strongest subpopulations occur in protected areas, although habitat destruction within these areas continues. Additionally, Jamaica's Forest Act of 1996 and Forest Regulations Act of 2001 have increased the power of Jamaican authorities to protect the species' habitat; the Jamaican kite swallowtail is included in Jamaica's National Strategy and Action Plan on Biological Diversity. This strategy established specific plans for protecting sites that support two subpopulations of the swallowtail, but, to date, they have not been initiated due to funding and capacity constraints.

Illegal collection and trade of the species may be occurring. Three specimens of the Jamaican kite swallowtail were noted for sale on the internet as recently as 2017, for as much as $120 USD, and one specimen sold in 2015 for $178 USD. Specimens of the Homerus swallowtail (Papilio homerus, another rare Jamaican butterfly) have also been illegally traded, indicating that there is a market for Jamaican butterflies despite heavy fines under the Jamaican Wildlife Protection Act. Predation from native predators, including spiders, the Jamaican tody (Todus todus), and praying mantis (Mantis religiosa), may be adversely affecting the Jamaican kite swallowtail, especially in the smaller subpopulations. In years where large numbers of spiders were observed, very few Jamaican kite swallowtail larvae survived. Additionally, this species may be at greater risk of extinction due to natural events such as hurricanes, and small fragmented subpopulations are generally at greater risk of extinction from habitat loss, predation, and stochastic environmental events.

Since 1985, the Jamaican kite swallowtail has been categorized on IUCN's Red List as vulnerable, but the assessment is marked as needs updating. This species is not included in the Appendices to CITES or the European Union Wildlife Trade Regulations, although some level of illegal trade is likely occurring.

In the October 10, 2019, CNOR, the Jamaican kite swallowtail was assigned an LPN of 2. After reevaluating the factors affecting the Jamaican kite swallowtail, we have determined that no change in LPN is warranted because the threats are high in magnitude and imminent. The Jamaican kite swallowtail does not represent a monotypic genus. The Jamaican kite swallowtail is known from only five small subpopulations, and as few as two of these subpopulations may presently be viable. Although Jamaica has taken regulatory steps to preserve native swallowtail habitat, plans for conservation of vital areas for the butterfly have not been implemented. Thus, an LPN of 2 remains valid for this species to reflect imminent threats of high magnitude.

Kaiser-i-Hind Swallowtail

Kaiser-i-Hind swallowtail (Teinopalpus imperialis) is a green, black, and orange swallowtail butterfly that is large, ornate, and native to the Himalayan regions of Bhutan, China, India, Laos, Myanmar, Nepal, Thailand, and Vietnam. The species occurs in the foothills of the Himalayan Mountains and other mountainous regions at altitudes of 1,500-3,050 m (4,921-10,000 ft) above sea level, in undisturbed (primary) broad-leaved evergreen forests or montane deciduous forests. Although it has a relatively large range, it is restricted to higher elevations and occurs only locally within this range, and populations are described as being very local and never abundant. Even early accounts of the species described it as being a very rare occurrence. Larval host plants are limited to Magnolia and Daphne species, and in some regions the Kaiser-i-Hind swallowtail is strictly monophagous, only using a single species of Magnolia as a host plant.

Habitat destruction negatively affects this species, which prefers undisturbed, high-altitude forests. In China and India, the Kaiser-i-Hind swallowtail populations are affected by habitat modification and destruction due to commercial and illegal logging, as well as clearing for agriculture in India. In Nepal, the species is affected by habitat disturbance and destruction resulting from mining, wood collection for use as fuel, deforestation, collection of fodders and fiber plants, forest fires, invasion of bamboo species into the oak forests, agriculture, and grazing animals. In Vietnam, the forest habitat is reportedly declining. Comprehensive information on the rate of degradation of Himalayan forests containing the Kaiser-i-Hind swallowtail is not available, but habitat loss is consistently reported as one of the primary ongoing threats to the species. Collection for commercial trade is also regarded as a threat to the species. The Kaiser-i-Hind swallowtail is highly valued and has been collected and traded despite various prohibitions. Although it is difficult to assess the potential impacts from collection, it is possible that collection in combination with other stressors contribute to local extirpations.

In China, the species is protected by the Law of the People's Republic of China on the Protection of Wildlife. In India, the Kaiser-i-Hind swallowtail is listed on Schedule II of the Indian Wildlife Protection Act. In Thailand, all butterflies in the genus Teinopalpus, including the Kaiser-i-Hind swallowtail, are listed under Thailand's Wild Animal Reservation and Protection Act. In Vietnam, the species is listed as “Vulnerable” in the 2007 Vietnam Red Data Book and is reported to be the most valuable of all butterflies in Vietnam. In 2006, the species was listed on Vietnam's Schedule IIB of Decree No. 32 on management of endangered, precious, and rare forest plants and animals. Since 1996, the Kaiser-i-Hind swallowtail has been categorized on the IUCN Red List as lower risk/near threatened, but IUCN indicates that this assessment needs updating. The Kaiser-i-Hind swallowtail has been included in CITES Appendix II since 1987. Additionally, the Kaiser-i-Hind swallowtail is listed on Annex B of the European Union Wildlife Trade Regulations; species listed on Annex B require an import permit.

In the October 10, 2019, CNOR, the Kaiser-i-Hind swallowtail was assigned an LPN of 8. After reevaluating the threats to this species, we have determined that no change in its LPN of 8 is warranted because threats to the species are moderate in magnitude and imminent. The Kaiser-i-Hind swallowtail does not represent a monotypic genus. Threats from habitat destruction and illegal collection are moderate in magnitude due to the species' wide distribution and to various protections in place within each country. The threats are imminent due to ongoing habitat destruction and high market value for specimens. Therefore, an LPN of 8 remains valid for this species to reflect imminent threats of moderate magnitude.

Current CNOR

We gather data on plants and animals foreign to the United States that appear to merit consideration for addition to the Lists of Endangered and Threatened Wildlife and Plants (Lists). This document identifies those species that we currently regard as candidates for addition to the Lists. These candidates include species and subspecies of fish, wildlife, or plants, and DPSs of vertebrate animals. This compilation relies on information from status surveys and information from foreign countries, other Federal agencies, knowledgeable scientists, public and private natural resource interests, and comments received in response to previous CNORs.

Table 4, below, list animals arranged alphabetically by common names under the major group headings. Animals are grouped by class or order. Useful synonyms and subgeneric scientific names appear in parentheses with the synonyms preceded by an “equals” sign. We incorporate standardized common names in these CNORs as they become available.

Table 4 lists all candidate species, plus species currently proposed for listing under the Act. We emphasize that in this document we are not proposing to list any of the candidate species; rather, we will develop and publish proposed listing rules for these species in the future. We encourage foreign countries where a candidate species occurs, other Federal agencies, and other parties to consider these species in environmental planning.

In Table 4, the “Category” column on the left side of the table identifies the status of each species according to the following codes:

PE—Species proposed for listing as endangered. This category does not include species for which we have withdrawn or finalized the proposed rule.

C—Candidates: Species for which we have on file sufficient information on biological vulnerability and threats to support proposals to list them as endangered or threatened. Issuance of proposed rules for these species is precluded at present by other higher priority listing actions. This category includes species for which we made a 12-month warranted-but-precluded finding on a petition to list. Our analysis for this document included making new findings on all petitions for which we previously made “warranted-but-precluded” findings. We identify the species for which we made a continued warranted-but-precluded finding on a resubmitted petition by the code “C*” in the category column (see Findings for Petitioned Candidate Species, above, for additional information).

The “Priority” column indicates the LPN for each candidate species, which we use to determine the most appropriate use of our available resources. The lowest numbers have the highest priority. We assign LPNs based on the immediacy and magnitude of threats, as well as on taxonomic status. We published a complete description of our listing priority system in the Federal Register (48 FR 43098; September 21, 1983).

Following the scientific name (third column) and the family designation (fourth column) is the common name (fifth column). The sixth column provides the known historical range for the species or vertebrate population (for vertebrate populations, this is the historical range for the entire species or subspecies and not just the historical range for the DPS), indicated by country. Many species no longer occur in all of the areas indicated in the historical range column.

Request for Information

We request additional status information that may be available for any of the candidate species identified in this CNOR. We will consider this information to monitor changes in the status or LPN of candidate species and to manage candidates as we prepare listing documents and future revisions to the CNOR. We also request information on additional species to consider including as candidates as we prepare future updates of this CNOR.

We request you submit any further information on the species named in this document as soon as possible or whenever it becomes available. We are particularly interested in information:

(1) Indicating that we should add a species to the list of candidate species;

(2) Indicating that we should remove a species from candidate status;

(3) Documenting threats to any of the included species;

(4) Describing the immediacy or magnitude of threats facing candidate species;

(5) Pointing out taxonomic or nomenclature changes for any of the species;

(6) Suggesting appropriate common names; and

(7) Noting any mistakes, such as errors in the indicated historical ranges.

We will consider all information provided in response to this CNOR in deciding whether to propose species for listing and when to undertake necessary listing actions (including whether emergency listing under section 4(b)(7) of the Act is appropriate).

Submit information, materials, or comments regarding foreign species to the person listed under FOR FURTHER INFORMATION CONTACT, above. We will maintain information we receive for each candidate species mentioned in the submission, and information and comments we receive will become part of the administrative record for the species.

Public Availability of Comments

Before including your address, phone number, email address, or other personal identifying information in your submission, be advised that your entire submission—including your personal identifying information—may be made publicly available at any time. Although you can ask us in your submission to withhold from public review your personal identifying information, we cannot guarantee that we will be able to do so.

Signing Authority

The Director, U.S. Fish and Wildlife Service, approved this document and authorized the undersigned to sign and submit the document to the Office of the Federal Register for publication electronically as an official document of the U.S. Fish and Wildlife Service. Martha Williams, Principal Deputy Director Exercising the Delegated Authority of the Director, U.S. Fish and Wildlife Service, approved this document on August 4, 2021, for publication.

Authority

This document is published under the authority of the Endangered Species Act of 1973, as amended (16 U.S.C. 1531 et seq.).

Madonna Baucum,
Regulations and Policy Chief, Division of Policy, Economics, Risk Management, and Analytics, Joint Administrative Operations, U.S. Fish and Wildlife Service.

Table 4—Candidate Notice of Review (Foreign Species)
[Note: See end of SUPPLEMENTARY INFORMATION for an explanation of symbols used in this table.]
Status: Category | Status: Priority | Scientific name | Family | Common name | Historical range
BIRDS
C * | 2 | Scytalopus novacapitalis | Rhinocryptidae | Tapaculo, Brasilia | Brazil.
C * | 2 | Pauxi koepckeae | Cracidae | Curassow, Sira | Peru.
C * | 2 | Pauxi unicornis | Cracidae | Curassow, southern helmeted | Bolivia.
C * | 6 | Strepera graculina crissalis | Cracticidae | Currawong, Lord Howe Island pied | Lord Howe Island, New South Wales.
C * | 8 | Haematopus chathamensis | Haematopodidae | Oystercatcher, Chatham | Chatham Islands, New Zealand.
C * | 8 | Cyanoramphus malherbi | Psittacidae | Parakeet, orange-fronted | New Zealand.
C * | 2 | Rallus semiplumbeus | Rallidae | Rail, Bogotá | Colombia.
C * | 8 | Porphyrio hochstetteri | Rallidae | Takahē | New Zealand.
C * | 8 | Tangara peruviana | Thraupidae | Tanager, black-backed | Brazil.
C * | 2 | Aulacorhynchus huallagae | Ramphastidae | Toucanet, yellow-browed | Peru.
C * | 2 | Zosterops luteirostris | Zosteropidae | White-eye, Gizo | Solomon Islands.
C * | 8 | Dryocopus galeatus | Picidae | Woodpecker, helmeted | Argentina, Brazil, Paraguay.
C * | 2 | Dendrocopos noguchii | Picidae | Woodpecker, Okinawa | Okinawa Island, Japan.
FISHES
PE |  | Acipenser dabryanus | Acipenseridae | Sturgeon, Yangtze | China.
CLAMS
C * | 8 | Mulinia modesta | Mactridae | Clam, Colorado delta | Mexico.
INSECTS
C * | 2 | Parides ascanius | Papilionidae | Swallowtail, fluminense | Brazil.
C * | 2 | Parides hahneli | Papilionidae | Swallowtail, Hahnel's Amazonian | Brazil.
C * | 3 | Mimoides (=Eurytides or Graphium) lysithous harrisianus | Papilionidae | Swallowtail, Harris' mimic | Brazil.
C * | 2 | Protographium (=Eurytides or Graphium or Neographium or Protesilaus) marcellinus | Papilionidae | Swallowtail, Jamaican kite | Jamaica.
C * | 8 | Teinopalpus imperialis | Papilionidae | Swallowtail, Kaiser-i-Hind | Bhutan, China, India, Laos, Myanmar, Nepal, Thailand, Vietnam.

[FR Doc. 2021-16943 Filed 8-6-21; 8:45 am]

BILLING CODE 4333-15-P